DEPARTMENT OF COMMERCE

National Oceanic and Atmospheric Administration

50 CFR Part 648

[Docket No. 150105004-5355-01]

RIN 0648-BE75

Magnuson-Stevens Fishery Conservation and Management Act Provisions; Fisheries of the Northeastern United States; Northeast Groundfish Fishery; Framework Adjustment 53

AGENCY: National Marine Fisheries Service (NMFS), National Oceanic and Atmospheric Administration (NOAA), Commerce.

ACTION: Final rule; request for comments.

SUMMARY: This final rule approves and implements Framework Adjustment 53 to the Northeast Multispecies Fishery Management Plan. This rule sets fishing years 2015-2017 catch limits for several groundfish stocks, modifies management measures for Gulf of Maine cod, and adopts other measures to improve the management of the groundfish fishery. This action is necessary to respond to updated scientific information and achieve the goals and objectives of the fishery management plan. The final measures are intended to prevent overfishing, rebuild overfished stocks, achieve optimum yield, and ensure that management measures are based on the best scientific information available.

DATES: Effective May 1, 2015. Comments on the burden-hour estimates or other aspects of the collection-of-information requirements contained in this final rule must be received by June 30, 2015.

ADDRESSES: Written comments regarding the burden-hour estimates or other aspects of the collection-of-information requirements contained in this final rule may be submitted by either of the following methods:

• Electronic Submission: Submit all electronic public comments via email to OIRA_Submission@omb.eop.gov.

• Mail: Submit written comments to John K. Bullard, Regional Administrator, National Marine Fisheries Service, 55 Great Republic Drive, Gloucester, MA 01930. Mark the outside of the envelope, “Comments on Groundfish Daily Catch Reporting.”

Copies of Framework Adjustment 53, including the Environmental Assessment, the Regulatory Impact Review, and the Iinal Regulatory Flexibility Act analysis prepared by the New England Fishery Management Council and NMFS in support of this action are available from John K. Bullard, Regional Administrator, NMFS Greater Atlantic Regional Fisheries Office, 55 Great Republic Drive, Gloucester, MA 01930. The supporting documents are also accessible via the Internet at: http://www.nefmc.org/management-plans/northeast-multispecies or http://www.greateratlantic.fisheries.noaa.gov/sustainable/species/multispecies.

FOR FURTHER INFORMATION CONTACT: Sarah Heil, Fishery Policy Analyst, phone: 978-281-9257; email: Sarah.Heil@noaa.gov.

SUPPLEMENTARY INFORMATION:

Table of Contents

1. Summary of Approved Measures

2. Status Determination Criteria

3. Fishing Year 2015 Shared U.S./Canada Quotas

4. Fishing Years 2015-2017 Catch Limits

5. Gulf of Maine Cod Protection Measures

6. Default Catch Limits

7. Sector Carryover

8. Fishing Year 2015 Common Pool Management Measures

9. Fishing Year 2015 Northern Windowpane Flounder Accountability Measure

10. Daily Catch Reporting for Commercial Groundfish Vessels

11. Regulatory Corrections Under Regional Administrator Authority

1. Summary of Approved Measures

This final rule approves and implements measures in Framework Adjustment 53 to the Northeast Multispecies Fishery Management Plan (FMP), and removes all measures that we previously implemented in the 2014 interim action for Gulf of Maine (GOM) cod. The New England Fishery Management Council developed Framework 53 primarily in response to new stock assessments that were conducted in 2014 for a number of groundfish stocks. The new measures implemented by this final rule include:

• Revised status determination criteria for several groundfish stocks;

• Fishing year 2015 shared U.S./Canada quotas for transboundary Georges Bank (GB) stocks;

• Fishing years 2015-2017 catch limits for several groundfish stocks;

• GOM cod protection closures and possession restrictions;

• A mechanism to set default catch limits in the event a future management action is delayed; and

• A provision that allows groundfish sectors to carry over unused quota in response to a recent court ruling.

This action also implements a number of other measures that are not part of Framework 53, but that were considered under our authority specified in the FMP. We are including these measures in conjunction with the Framework 53 approved measures for expediency purposes. The additional measures implemented in this rule are listed below.

• Management measures for the common pool fishery—this action implements initial fishing year 2015 trip limits for the common pool fishery. We have the authority to set management measures for the common pool fishery that will help ensure that the fishery achieves, but does not exceed, its catch limits.

• Accountability measure (AM) for northern windowpane flounder—this action implements an AM for northern windowpane flounder for fishing year 2015 due to an overage of the 2014 catch limit for this stock. This AM requires sector and common pool vessels to use selective trawl gear when fishing in certain areas on GB.

• Daily catch reporting for commercial groundfish vessels—this action implements a requirement that commercial groundfish vessels submit a daily catch report through the Vessel Monitoring System (VMS) when declared into the GOM broad stock area and any other broad stock area on the same trip. Groundfish vessels must currently submit trip-level reports. However, we have the authority to modify the frequency of reporting, if necessary.

• Other regulatory corrections—we are implementing several revisions to the regulations to correct references, remove unnecessary text, and make other minor edits. Each correction is described in the section “11. Regulatory Corrections Under Regional Administrator Authority.”

2. Status Determination Criteria

The Northeast Fisheries Science Center (NEFSC) conducted stock assessments in 2014 for GOM cod, GOM haddock, GOM winter flounder, GB yellowtail flounder, GB winter flounder, and pollock. To incorporate the results of these assessments, this action changes the status determination for GB yellowtail flounder to unknown and updates the numerical estimates of the status determination criteria for the remaining stocks. Table 1 provides the updated numerical estimates of the status determination criteria, and Table 2 summarizes changes in stock status based on the new stock assessments conducted in 2014.

Although status determination relative to reference points is unknown for GB yellowtail flounder, the best scientific information available indicates that stock status is poor. The changes to the status determination criteria implemented in this action do not affect the rebuilding plan for this stock, which has an end date of 2032. Although biomass estimates are not currently available, to ensure that rebuilding progress is made, catch limits will continue to be set at levels at which the Transboundary Resources Assessment Committee and the Council's Scientific and Statistical Committee (SSC) determine will prevent overfishing. Additionally, at whatever point the stock assessment for GB yellowtail flounder can provide numerical estimates of status determination criteria, those estimates will be used to evaluate progress towards the existing rebuilding targets.

Table 1—Numerical Estimates of Status Determination Criteria
Stock | Biomass target SSBMSY or proxy (mt) | Maximum fishing mortality threshold (FMSY or proxy) | MSY (mt)
GOM Cod:
M=0.2 Model | 47,184 | 0.18 | 7,753
Mramp Model | 69,621 | 0.18 | 11,388
GOM Haddock | 4,108 | 0.46 | 955
GOM Winter Flounder | n/a | 0.23 exploitation rate | n/a
GB Yellowtail Flounder | n/a | n/a | n/a
GB Winter Flounder | 8,100 | 0.44 | 3,200
Pollock | 76,900 | 0.42 (equivalent to F5-7 = 0.27) | 14,800
SSB = Spawning Stock Biomass; MSY = Maximum Sustainable Yield; F = Fishing Mortality; M = Natural Mortality
Note. An explanation of the two assessment models for GOM cod is provided in the section “4. Fishing Years 2015-2017 Catch Limits.”

Table 2—Summary of Changes to Stock Status
Stock | Previous assessment: Overfishing? | Previous assessment: Overfished? | 2014 assessment: Overfishing? | 2014 assessment: Overfished?
GOM Cod | Yes | Yes | Yes | Yes
GOM Haddock | Yes | No ¹ | No | No
GOM Winter Flounder | No | Unknown | No | Unknown
GB Yellowtail Flounder | Yes | Yes | Unknown | Unknown
GB Winter Flounder | No | No | No | No
Pollock | No | No | No | No
¹ Stock was approaching an overfished condition

3. Fishing Year 2015 U.S./Canada Quotas

As described in the proposed rule, eastern GB cod, eastern GB haddock, and GB yellowtail flounder are jointly managed with Canada under the U.S./Canada Resource Sharing Understanding. This action adopts shared U.S./Canada quotas for these stocks for fishing year 2015 based on 2014 assessments and the recommendations of the Transboundary Management Guidance Committee (TMGC) (Table 3). For a more detailed discussion of the TMGC's 2015 catch advice, see the TMGC's guidance document at: http://www.greateratlantic.fisheries.noaa.gov/sustainable/species/multispecies/index.html.

Table 3—Fishing Year 2015 U.S./Canada Quotas (mt, Live Weight) and Percent of Quota Allocated to Each Country
Quota | Eastern GB Cod | Eastern GB Haddock | GB Yellowtail Flounder
Total Shared Quota | 650 | 37,000 | 354
U.S. Quota | 124 (19%) | 17,760 (48%) | 248 (70%)
Canada Quota | 526 (81%) | 19,240 (52%) | 106 (30%)

The regulations implementing the U.S./Canada Resource Sharing Understanding require that any overages of the U.S. quota for eastern GB cod, eastern GB haddock, or GB yellowtail flounder be deducted from the U.S. quota in the following fishing year. If fishing year 2014 catch information indicates that the U.S. fishery exceeded its quota for any of the shared stocks, we must reduce the respective U.S. quota for fishing year 2015 in a future management action, as close to May 1, 2015, as possible. If any fishery that is allocated a portion of the U.S. quota exceeds its allocation, and causes an overage of the overall U.S. quota, the overage reduction would only be applied to that fishery's allocation in the following fishing year. This ensures that catch by one component of the fishery does not negatively affect another component of the fishery.

4. Fishing Years 2015-2017 Catch Limits

This action adopts fishing years 2015-2017 catch limits for GOM cod, GOM haddock, GOM winter flounder, GB winter flounder, GB yellowtail flounder (2015-2016 only), and pollock based on the 2014 assessments for these stocks. In addition, this action updates the 2015 catch limits for GB cod and GB haddock based on the U.S./Canada quotas for the portions of these stocks jointly managed with Canada. For all other stocks, the overall catch limits included in this rule are the same as those previously adopted in the final rules implementing Framework 50 and Framework 51 to the FMP, although small changes have been made to the distribution of these catch limits to the various components of the fishery. The catch limits implemented in this action, including overfishing limits (OFLs), acceptable biological catches (ABCs), and annual catch limits (ACLs), can be found in Tables 4 through 12. A summary of how these catch limits were developed, including the distribution to the various fishery components, was provided in the proposed rule. Additional information on the development of these catch limits is also provided in the Framework 53 Environmental Assessment and its supporting appendices.

The sector and common pool catch limits implemented in this action are based on potential sector contributions (PSCs) for fishing year 2015 and fishing year 2014 sector rosters. 2015 sector rosters will not be finalized until May 1, 2015, because individual permit holders have until the end of the 2014 fishing year (April 30, 2015) to drop out of a sector and fish in the common pool fishery for 2015. Therefore, it is possible that the sector and common pool catch limits in this action may change due to changes in the sector rosters. If changes to the sector rosters occur, updated catch limits will be announced as soon as possible in the 2015 fishing year to reflect the final sector rosters as of May 1, 2015. Sector specific allocations for each stock can be found in the final rule for 2015-2016 Sector Operations Plans and Contracts.

There are no catch limits adopted for fishing years 2016 or 2017 for most groundfish stocks. Stock assessment updates for all groundfish stocks are scheduled for September 2015, and, based on these assessment updates, catch limits will be set in a future action for fishing years 2016-2018. Given the timing of the stock assessments, the management action for the 2016 fishing year is not expected to be completed by the start of the fishing year. As a result, this action adopts default catch limits that would be implemented on May 1, 2016, to prevent disruption to the fishery (see the section “6. Default Catch Limits”).

Table 4—Fishing Years 2015-2017 Overfishing Limits and Acceptable Biological Catches
[mt, live weight]
Stock | 2015: OFL | 2015: U.S. ABC | 2016: OFL | 2016: U.S. ABC | 2017: OFL | 2017: U.S. ABC
GB Cod | 4,191 | 1,980 |  |  |  |
GOM Cod | 514 | 386 | 514 | 386 | 514 | 386
GB Haddock | 56,293 | 24,366 |  |  |  |
GOM Haddock | 1,871 | 1,454 | 2,270 | 1,772 | 2,707 | 2,125
GB Yellowtail Flounder |  | 248 |  | 354 |  |
SNE/MA Yellowtail Flounder | 1,056 | 700 |  |  |  |
CC/GOM Yellowtail Flounder | 1,194 | 548 |  |  |  |
American Plaice | 2,021 | 1,544 |  |  |  |
Witch Flounder | 1,846 | 783 |  |  |  |
GB Winter Flounder | 3,242 | 2,010 | 3,383 | 2,107 | 3,511 | 2,180
GOM Winter Flounder | 688 | 510 | 688 | 510 | 688 | 510
SNE/MA Winter Flounder | 4,439 | 1,676 |  |  |  |
Redfish | 16,845 | 11,974 |  |  |  |
White Hake | 6,237 | 4,713 | 6,314 | 4,645 |  |
Pollock | 21,538 | 16,600 | 21,864 | 16,600 | 24,598 | 16,600
N. Windowpane Flounder | 202 | 151 |  |  |  |
S. Windowpane Flounder | 730 | 548 |  |  |  |
Ocean Pout | 313 | 235 |  |  |  |
Atlantic Halibut | 198 | 100 |  |  |  |
Atlantic Wolffish | 94 | 70 |  |  |  |
SNE/MA = Southern New England/Mid-Atlantic; CC = Cape Cod; N = Northern; S = Southern.
Note: An empty cell indicates no OFL/ABC is adopted for that year. These catch limits will be set in a future action.

Gulf of Maine Cod

A detailed summary of the GOM cod stock assessment, and the development of catch limits for the 2015-2017 fishing years, was provided in the proposed rule to this action, and is not repeated here. In the proposed rule, we made a preliminary determination that an ABC of 386 mt would meet necessary conservation objectives, but requested additional comment on some aspects of this ABC. We received a number of comments in response to this request, including additional catch projections to better illustrate the potential biological impacts of various catch scenarios. After considering public comment, supporting analysis, and the best scientific information available, we have determined that an ABC of 386 mt is appropriate and consistent with the requirements of the Magnuson-Stevens Fishery Conservation and Management Act (Magnuson-Stevens Act) and the National Standards. As described below, this ABC balances other Magnuson-Stevens Act objectives, including achieving optimum yield and taking into account the needs of fishing communities, without compromising conservation objectives to prevent overfishing and rebuild the stock. In light of current stock conditions, this ABC is a 75-percent reduction compared to 2014, which is in addition to the 80-percent reduction implemented for fishing years 2013-2014. In total, the GOM cod catch limit has been reduced by 95 percent over the last 5 years.

We are approving an ABC of 386 mt with the expectation that the catch limits implemented in this final rule will be reviewed following the September 2015 assessment for GOM cod. This assessment is intended to be incorporated for fishing year 2016. Fishing years 2016-2018 catch limits for GOM cod would be set based on the September 2015 assessment, and would replace the 2016-2017 catch limits adopted in this final rule. Uncertainties in catch projections can be exacerbated if 3-year specifications are set and remain unchecked without additional stock assessment information. However, in this case, we determined that concerns for past performance, and the risk of erring in setting the ABC, are largely mitigated given the pending 2015 assessment. Therefore, our approval of the GOM cod ABC is, effectively, only approval for the first year of the remaining rebuilding time period.

As described more fully in the proposed rule, the SSC initially recommended an OFL of 514 mt and a provisional ABC of 200 mt for fishing years 2015-2017 based on catch scenarios that the Council's Groundfish Plan Development Team (PDT) presented. One provision of the ABC control rule in the FMP specifies that catch limits be based on 75 percent of FMSY or Frebuild, whichever is lower. As part of the 2014 assessment, catch projections were updated, and Frebuild was calculated as the constant F required to rebuild the stock by 2024. The SSC's provisional ABC recommendation of 200 mt was the midpoint between the Frebuild catch for the scenario in which natural mortality is 0.2 and the scenario in which natural mortality increases, but returns to 0.2. This provisional ABC did not incorporate the projection that assumes natural mortality remains at 0.4, and that suggests rebuilding is not possible. As a result, the SSC determined that this provisional ABC was not consistent with its OFL recommendation, which was developed by averaging the 2015 FMSY catches from all three catch projections.

Following discussion about the rebuilding potential of GOM cod, and the catch projection that indicates rebuilding is not possible, the SSC requested that the PDT provide analysis of the incidental catch of GOM cod. This request was in recognition of the ABC control rule that specifies that, if a stock cannot rebuild in the specified rebuilding period, even with no fishing, the ABC should be based on incidental bycatch, including a reduction in the bycatch rate. Based on analysis presented by the PDT, the SSC determined that the overall incidental catch of GOM cod was approximately 500-600 mt for the 2013 fishing year under the current operating conditions of the fishery. After consideration of this information, and examination of the available assessment information, the SSC recommended an ABC of 386 mt, which was calculated by taking 75 percent of the OFL. This recommendation was an attempt to balance the various natural mortality scenarios and catch projections from the two assessment models with the various provisions of the ABC control rule. Similar to our conditional approval of the ABC, the SSC noted that it expected to revisit its catch advice for fishing years 2016-2017 following the 2015 assessment update.

The PDT updated the catch projections following the SSC's final ABC recommendation. These projections, along with the biological impacts analysis, indicate that an ABC of 386 mt has a 6- to 33-percent probability of overfishing in fishing year 2015. Although recognizing that catch projections can be optimistic, these probabilities are well below the median, and indicate that the ABC is sufficiently below the OFL to prevent overfishing. Further, for the two projection scenarios that indicate that rebuilding can occur, an ABC of 386 mt for fishing years 2015-2017 would still rebuild the stock by 2024. All of the available catch projections indicate that an ABC of 386 mt would result in a fishing mortality rate of 0.13-0.11, which would be the lowest fishing mortality rate in the assessment time series. This estimated fishing mortality rate would be an 80-percent reduction from the estimated 2014 fishing mortality rate, and a 90-percent reduction from the fishing mortality rate estimated for 2013.

The catch projections that the PDT completed for the biological impacts analysis indicate that rebuilding could still occur under a 386-mt ABC for the 2015-2017 fishing years. However, since we published the proposed rule, we further examined various catch projection scenarios to better understand the trade-offs associated with an ABC of 386 mt. Based on this evaluation, a catch of 386 mt in fishing year 2015 is expected to have little functional difference in future catches and biomass compared to the 200-mt option that the SSC initially considered, but did not recommend. This is, in part, because catches would be lower under the 386-mt scenario in the out years of the rebuilding period compared to those needed under a catch of 200 mt. Considering this, we determined that an ABC of 386 mt would meet conservation objectives, and allow rebuilding to occur by 2024, while still trying to balance the need to achieve optimum yield for the groundfish fishery, as well as mitigate the economic impacts of the GOM cod catch limit, to the extent practicable.

An ABC of 386 mt is expected to have substantial economic impacts on groundfish vessels, which are summarized later in this preamble. These impacts are expected to be disproportionately distributed among the groundfish fleet. The largest revenue reductions are expected for small vessels less than 50 ft (15 m), and those fishing from Gloucester, MA, and New Hampshire ports. The economic impacts of the GOM cod ABC implemented in this final rule are expected to be substantially greater than previous catch limit reductions for GOM cod and other groundfish stocks.

Based on incidental catch information compiled by the PDT, an ABC of 386 mt is below the estimate of incidental catch of GOM cod that occurred in fishing year 2013. Incidental catch is largely a function of the overall ACL given the AMs in place for groundfish vessels. However, this information is illustrative of potential fishery operations under an ABC of 386 mt, which are expected to be greatly restricted, and in some cases eliminated.

In fishing year 2013, when the ACL was reduced by 80 percent, incidental catch was estimated to be approximately 500-600 mt. Beginning in fishing year 2013, sectors primarily used their GOM cod allocation to access other groundfish stocks. Multiple sources of information indicate a marked decline in directed fishing for GOM cod. With an additional 75-percent reduction beginning in fishing year 2015, the incentive to target GOM cod is virtually eliminated, and the fishery will be, in effect, a “bycatch-only” fishery. The average GOM cod allocation for a sector will be 23,000 lb (10,433 kg), and many sectors will receive allocations less than 10,000 lb (4,536 kg). In addition, the recreational fishery will be prohibited from possessing GOM cod. Even under this incidental catch scenario, the GOM cod ABC is expected to severely restrict catch of other groundfish stocks, particularly GOM haddock, pollock, redfish, and some flatfish.

We remain concerned about GOM cod stock status, and will continue to carefully consider management measures for this stock. The ABC we are implementing in this action is a complex balance between conservation objectives and other Magnuson-Stevens Act requirements. In an effort to closely monitor stock indicators, we reviewed the recent fall 2014 NEFSC bottom trawl survey indices. The fall survey indicated a small increase compared to 2012 and 2013; however, the general trend of survey indices, as well as recruitment, remains very low. While the updated survey information may provide an initial, and potentially positive, indication of improvement, it is difficult to anticipate the results of the full 2015 assessment. We will continue to carefully monitor stock indicators leading into the 2015 assessment to fully inform our re-evaluation of the GOM cod catch limit, and the balancing of conservation and management objectives.

Further, one concern we raised during the development of Framework 53, and in the proposed rule, is the importance of controlling fishing mortality to help ensure that conservation objectives are met. Available analyses suggest that an extremely low catch limit for GOM cod may create an economic incentive to misreport catch, and, if this occurs, could reduce the accuracy of catch apportionment. Information indicates that this incentive increases as the GOM cod catch limit is further reduced. To help ensure correct catch apportionment and compliance with the GOM cod ACL adopted in this action, we are also implementing an additional reporting requirement for common pool and sector vessels fishing in multiple broad stock areas on the same trip. This additional reporting requirement is described in the section “10. Daily Catch Reporting for Commercial Groundfish Vessels.”

Table 5—Fishing Year 2015 Catch Limits
[mt, live weight]
Stock | Total ACL | Total groundfish fishery | Preliminary sector | Preliminary common pool | Recreational fishery | Midwater trawl fishery | Scallop fishery | Small-mesh fisheries | State waters sub-component | Other sub-component
GB Cod | 1,886 | 1,787 | 1,753 | 34 |  |  |  |  | 20 | 79
GOM Cod | 366 | 328 | 202 | 5 | 121 |  |  |  | 26 | 13
GB Haddock | 23,204 | 21,759 | 21,603 | 156 |  | 227 |  |  | 244 | 975
GOM Haddock | 1,375 | 1,329 | 949 | 9 | 372 | 14 |  |  | 11 | 21
GB Yellowtail Flounder | 240 | 195 | 192 | 3 |  |  | 38 | 5 | na | 2
SNE/MA Yellowtail Flounder | 666 | 557 | 457 | 102 |  |  | 66 |  | 14 | 28
CC/GOM Yellowtail Flounder | 524 | 458 | 442 | 16 |  |  |  |  | 38 | 27
American Plaice | 1,470 | 1,408 | 1,381 | 27 |  |  |  |  | 31 | 31
Witch Flounder | 751 | 610 | 598 | 12 |  |  |  |  | 23 | 117
GB Winter Flounder | 1,952 | 1,891 | 1,876 | 15 |  |  |  |  | na | 60
GOM Winter Flounder | 489 | 392 | 375 | 18 |  |  |  |  | 87 | 10
SNE/MA Winter Flounder | 1,607 | 1,306 | 1,149 | 157 |  |  |  |  | 117 | 184
Redfish | 11,393 | 11,034 | 10,974 | 60 |  |  |  |  | 120 | 239
White Hake | 4,484 | 4,343 | 4,311 | 32 |  |  |  |  | 47 | 94
Pollock | 15,878 | 13,720 | 13,628 | 92 |  |  |  |  | 996 | 1,162
N. Windowpane Flounder | 144 | 98 | na | 98 |  |  |  |  | 2 | 44
S. Windowpane Flounder | 527 | 102 | na | 102 |  |  | 183 |  | 55 | 186
Ocean Pout | 220 | 195 | na | 195 |  |  |  |  | 2 | 24
Atlantic Halibut | 97 | 64 | na | 64 |  |  |  |  | 30 | 3
Atlantic Wolffish | 65 | 62 | na | 62 |  |  |  |  | 1 | 3

Table 6—Fishing Year 2016 Catch Limits
[mt, live weight]
Stock | Total ACL | Total groundfish fishery | Preliminary sector | Preliminary common pool | Recreational fishery | Midwater trawl fishery | Scallop fishery | Small-mesh fisheries | State waters sub-component | Other sub-component
GOM Cod | 366 | 328 | 202 | 5 | 121 |  |  |  | 26 | 13
GOM Haddock | 1,675 | 1,620 | 1,155 | 12 | 453 | 16 |  |  | 13 | 26
GB Yellowtail Flounder | 343 | 278 | 274 | 4 |  |  | 55 | 7 | na | 4
GB Winter Flounder | 2,046 | 1,982 | 1,967 | 15 |  |  |  |  | na | 63
GOM Winter Flounder | 489 | 392 | 375 | 18 |  |  |  |  | 87 | 10
White Hake | 4,420 | 4,280 | 4,249 | 31 |  |  |  |  | 46 | 93
Pollock | 15,878 | 13,720 | 13,628 | 92 |  |  |  |  | 996 | 1,162

Table 7—Fishing Year 2017 Catch Limits
[mt, live weight]
Stock | Total ACL | Total groundfish fishery | Preliminary sector | Preliminary common pool | Recreational fishery | Midwater trawl fishery | State waters sub-component | Other sub-component
GOM Cod | 366 | 328 | 202 | 5 | 121 |  | 26 | 13
GOM Haddock | 2,009 | 1,943 | 1,386 | 14 | 543 | 20 | 15 | 31
GB Winter Flounder | 2,117 | 2,051 | 2,035 | 16 |  |  | na | 65
GOM Winter Flounder | 489 | 392 | 375 | 18 |  |  | 87 | 10
Pollock | 15,878 | 13,720 | 13,628 | 92 |  |  | 996 | 1,162

Table 8—Fishing Years 2015-2017 Common Pool Trimester Total Allowable Catches
[mt, live weight]
Stock | 2015: Trimester 1 | 2015: Trimester 2 | 2015: Trimester 3 | 2016: Trimester 1 | 2016: Trimester 2 | 2016: Trimester 3 | 2017: Trimester 1 | 2017: Trimester 2 | 2017: Trimester 3
GB Cod | 8.6 | 12.7 | 13.1 |  |  |  |  |  |
GOM Cod | 1.3 | 1.7 | 1.8 | 1.3 | 1.7 | 1.8 | 1.3 | 1.7 | 1.8
GB Haddock | 42.0 | 51.3 | 62.2 |  |  |  |  |  |
GOM Haddock | 2.56 | 2.47 | 4.46 | 3.1 | 3.0 | 5.4 | 3.7 | 3.6 | 6.5
GB Yellowtail Flounder | 0.6 | 0.9 | 1.6 | 0.9 | 1.4 | 2.3 |  |  |
SNE/MA Yellowtail Flounder | 21.4 | 37.7 | 42.8 |  |  |  |  |  |
CC/GOM Yellowtail Flounder | 5.5 | 5.5 | 4.7 |  |  |  |  |  |
American Plaice | 6.6 | 9.9 | 11.0 |  |  |  |  |  |
Witch Flounder | 3.4 | 3.8 | 5.2 |  |  |  |  |  |
GB Winter Flounder | 1.2 | 3.5 | 10.1 | 1.2 | 3.7 | 10.5 | 1.3 | 3.8 | 10.9
GOM Winter Flounder | 6.5 | 6.6 | 4.4 | 6.5 | 6.6 | 4.4 | 6.5 | 6.6 | 4.4
Redfish | 14.9 | 18.5 | 26.2 |  |  |  |  |  |
White Hake | 12.0 | 9.8 | 9.8 | 11.9 | 9.7 | 9.7 |  |  |
Pollock | 25.7 | 32.1 | 33.9 | 25.7 | 32.1 | 33.9 | 25.7 | 32.1 | 33.9
Note. An empty cell indicates that no catch limit has been set yet for the stock. These catch limits will be set in a future management action.

Table 9—Fishing Years 2015-2016 Common Pool Incidental Total Allowable Catches
[mt, live weight]
Stock | Percent of common pool sub-ACL | 2015 | 2016
GB Cod | 2 | 0.69 | na
GOM Cod | 1 | 0.05 | 0.05
GB Yellowtail Flounder | 2 | 0.06 | 0.09
CC/GOM Yellowtail Flounder | 1 | 0.16 | na
American Plaice | 5 | 1.37 | na
Witch Flounder | 5 | 0.62 | na
SNE/MA Winter Flounder | 1 | 1.57 | na

Table 10—Percent of Incidental Total Allowable Catch Allocated to Each Special Management Program
Stock | Regular B Days-at-Sea program | Closed Area I hook gear Haddock SAP | Eastern U.S./Canada Haddock SAP
GB Cod | 50 | 16 | 34
GOM Cod | 100 |  |
GB Yellowtail Flounder | 50 |  | 50
CC/GOM Yellowtail Flounder | 100 |  |
American Plaice | 100 |  |
Witch Flounder | 100 |  |
SNE/MA Winter Flounder | 100 |  |
White Hake | 100 |  |
SAP = Special Access Program.

Table 11—Fishing Years 2015-2016 Common Pool Incidental Total Allowable Catches for Each Special Management Program
[mt, live weight]
Stock | Regular B Days-at-Sea program: 2015 | Regular B Days-at-Sea program: 2016 | Closed Area I hook gear Haddock SAP: 2015 | Closed Area I hook gear Haddock SAP: 2016 | Eastern U.S./Canada Haddock SAP: 2015 | Eastern U.S./Canada Haddock SAP: 2016
GB Cod | 0.34 | na | 0.11 | na | 0.23 | na
GOM Cod | 0.05 | 0.05 |  |  |  |
GB Yellowtail Flounder | 0.03 | 0.05 |  |  | 0.03 | 0.05
CC/GOM Yellowtail Flounder | 0.16 | na |  |  |  |
American Plaice | 1.37 | na |  |  |  |
Witch Flounder | 0.62 | na |  |  |  |
SNE/MA Winter Flounder | 1.57 | na |  |  |  |

Table 12—Fishing Year 2015 Closed Area I Hook Gear Haddock Special Access Program Total Allowable Catch
[mt, live weight]
Exploitable biomass | Western GB B2015¹ | Western GB BYear/B2004 | Total allowable catch
169,027 | 59,159 | 2.166 | 2,448
¹ The western GB exploitable biomass is assumed to be 35 percent of the total exploitable biomass.

5. Gulf of Maine Cod Protection Measures

This action re-configures the GOM rolling closures and prohibits possession of GOM cod for the recreational fishery. The GOM cod protection closures implemented in this final rule are summarized in Table 13 and Figure 1. These closures apply to all federally permitted commercial vessels, except for commercial vessels that are fishing with exempted gear or in an exempted fishery. Additionally, these closures do not apply to commercial vessels that are fishing exclusively in state waters provided the vessel does not have a Federal multispecies permit. As adopted in Amendment 16 to the FMP, sector vessels are exempt from the closures in March and October. The March and October closures also do not apply to Handgear A vessels, regardless of whether the vessel was fishing in the common pool or in a sector.

Exempted gear, as defined in § 648.2, is deemed to be not capable of catching groundfish and currently includes: Pelagic hook and line; pelagic longline; spears; rakes; diving gear; cast nets; tongs; harpoons; weirs; dipnets; stop nets; pound nets; pelagic gillnets; pots and traps; shrimp trawls (with a properly configured grate); and surfclam and ocean quahog dredges. Based on the current list of approved exempted fisheries defined in § 648.80, the GOM cod protection closures do not apply to vessels fishing in the Midwater Trawl Gear Exempted Fishery, the Purse Seine Gear Exempted Fishery, the Raised Footrope Trawl Exempted Whiting Fishery, the Small Mesh Area 2 Exemption Area, or the Scallop Dredge Exemption Area. Only the exempted fisheries that overlap in time and area with the cod protection closures are listed here. This list may change if any changes are made to exempted fisheries, or the protection closures, in a future action.

Table 13—Gulf of Maine Cod Protection Closures
Month | Area Closures (30 minute square)
May | All Vessels: 125 north of 42°20′ N. lat., 132, 133, 138, 139, 140.
June | All Vessels: 125 north of 42°20′ N. lat., 132, 139, 140, 146, 147.
July | None.
August | None.
September | None.
October | Non-Sector Vessels: 124, 125.
November | All Vessels: Portion of 124, 125.
December | All Vessels: Portion of 124, 125.
January | All Vessels: Portion of 124, 125.
February | None.
March | Non-Sector Vessels: 121, 122, 123.
April | None.
Note: Handgear A vessels are exempt from the same closures as sector vessels.

The GOM cod closures are intended to protect spawning GOM cod, reduce fishing mortality on GOM cod, and provide additional fishing opportunities for groundfish vessels to target healthy groundfish stocks in areas that were previously closed. These closures are subject to review when the GOM cod spawning stock biomass reaches the minimum biomass threshold (50 percent of SSBMSY). However, as we noted in the proposed rule, the Council could review and modify these closures at any time. Given the pending 2015 assessment, and additional spawning research, reviewing these protection closures as new information becomes available is likely more important than waiting for the minimum biomass threshold to be met. We also highlight a number of concerns below for April, and the Council could consider changes to GOM area closures in light of these concerns. Additionally, as we described in the proposed rule, given the extremely low GOM cod allocation, it is difficult to predict how groundfish vessels will operate in 2015, and we expect the number of active groundfish vessels could markedly decline. We intend to monitor fishing effort following the implementation of management measures for the 2015 fishing year to ensure that any effort changes do not undermine the effectiveness of the protection closures.

The protection closures are an additional tool the Council is using to protect GOM cod, and are complementary to its requirement for setting catch limits that will prevent overfishing and help rebuild the stock. Based on the available information, protecting spawning GOM cod could help improve the chances of successful spawning events, and, as a result, help prevent failures of future year classes. Thus, the biological objective of these closures is to help prevent further biomass declines and improve the likelihood of rebuilding GOM cod. In light of the low GOM cod catch limit, the protection closures were also designed to balance these biological objectives with access to healthy groundfish stocks.

We highlighted some concerns in the proposed rule for the re-configuration of the GOM area closures. There are biological and economic trade-offs associated with the new closures, and we considered these trade-offs carefully. Available information suggests that once a specific spawning aggregation is lost, there is little indication that the aggregation could recover. As a result, we determined that the addition of winter closures is important because there are currently no protections for the winter spawning component. If the removal of April closures was recommended in isolation, with no additional spring or winter closures, we likely would have disapproved this measure. We determined, however, that the closed area recommendations for the winter and April time periods were presented as a package reflecting the Council's balancing of conservation benefits and impacts on the fishing industry, and, as such, could not be approved or disapproved independent of each other without undermining the Council's intent.

With the approval of the new area closures for GOM cod, we reiterate our concerns for the potential of the April opening to have negative impacts on other groundfish stocks that spawn in the spring. A number of these stocks are in poor condition (e.g., GOM winter flounder, CC/GOM yellowtail flounder), and, for plaice, the second 10-year rebuilding program was implemented in 2014 due to inadequate rebuilding progress. As we noted previously in this rule, we also remain concerned about GOM cod given its poor condition. The protection closures implemented in this final rule are closely related to measures under consideration in the Council's Habitat Omnibus Amendment 2. We will continue to work with the Council to help ensure the goals and objectives of that Amendment are met.

Recreational vessels are not subject to the GOM cod protection closures and could continue to fish in these areas. Federally permitted party and charter vessels are still required to obtain a letter of authorization to fish in the GOM closed areas. In lieu of the protection closures, this action adopts a prohibition on possession of GOM cod for all private recreational vessels fishing in Federal waters, and all federally permitted party and charter vessels. This is intended to reduce recreational fishing mortality on GOM cod, by reducing the incentive to target the stock, while still providing recreational vessels the opportunity to target other healthy groundfish stocks. Recent catch projections indicated that the recreational fishery would still exceed its allocation for GOM cod in the 2015 fishing year, due to bycatch, even with the prohibition on possession that is implemented in this action. Therefore, in a separate rulemaking, we are adopting additional recreational measures under our discretionary authority to help ensure the recreational fishery does not exceed its allocation for the 2015 fishing year.

BILLING CODE 3510-22-P

BILLING CODE 3510-22-C

6. Default Catch Limits

Mechanism for Setting Default Catch Limits

This action establishes a mechanism for setting default catch limits in the event a future management action is delayed. If final catch limits have not been implemented by the start of a fishing year on May 1, then default catch limits will be set at 35 percent of the previous year's catch limit. If this value exceeds the Council's recommendation for the upcoming fishing year, the default catch limits will be reduced to an amount equal to the Council's recommendation for the upcoming fishing year. Because groundfish vessels are not able to fish if final catch limits have not been implemented, this measure is intended to prevent disruption to the groundfish fishery if final catch limits are not in place by May 1.

Each time a specifications action is implemented, we intend to also announce the default catch limits that would go into place for the out year in the event a future management action is delayed. Once the Council's recommendation is known for that year, we will determine if any of the default catch limits previously set would exceed the Council's recommendation. If so, we will reduce the default catch limits consistent with the Council's recommendation, and will announce this adjustment prior to the start of the fishing year on May 1. For example, if a framework action sets catch limits for the 2016-2018 fishing year, we would announce the default catch limits for fishing year 2019 in the same final rule implementing the final 2016-2018 catch limits. If necessary, prior to the start of the 2019 fishing year, we will evaluate whether any of the default catch limits previously announced exceed the Council's recommendation for 2019. If so, we would announce adjustments to the 2019 default catch limits prior to May 1, 2019.

The default catch limits would be in place from May 1 through July 31, unless a final rule including finalized catch limits is implemented prior to July 31 that replaces the default catch limits. If final catch limits are not implemented by the end of the default specifications period, then no catch limits would be in place beginning on August 1. Under this scenario, commercial groundfish vessels would be unable to fish until final catch limits and allocations were implemented for the fishing year. All catch occurring while default catch limits are in place will be attributed to the appropriate fishery allocation and the final catch limits for the fishing year.

The default catch limits will be distributed to the various components of the fishery based on the distribution adopted by the Council for the previous fishing year. Additionally, this measure does not change any of the existing AMs for any fishery. For example, if a sector catches its entire allocation of redfish specified for the default specifications time period, it will be prohibited from fishing in the redfish stock area until final specifications were set, or it leased additional allocation for this stock. The midwater trawl fishery is the only non-groundfish fishery with an inseason AM for its allocation of GOM and GB haddock. When the GOM or GB haddock catch cap specified for the default specifications period is caught, the directed herring fishery will be closed for all herring vessels fishing with midwater trawl gear for the remainder of the default specifications time period, unless final specifications were set prior to July 31. For other non-groundfish fisheries that receive an allocation (e.g., scallop, small-mesh), this measure will not affect current operations because these fisheries do not currently have inseason AMs.

If default catch limits are implemented for any fishing year, groundfish sectors will not be subject to the 20-percent holdback of the prior year's allocation. This holdback provision was implemented in Amendment 16 to the FMP to allow time for processing end-of-year transfers and determine whether any overage reductions are necessary. However, the holdback provision will not be necessary under default catch limits because additional precaution has already been built in with the 65-percent reduction from the previous year's catch limits.

Although most FMPs implement default catch limits that are equal to the previous year's catch limits, a more precautionary approach was necessary for groundfish catch limits. In recent years, there have been a number of substantial reductions in groundfish catch limits, up to 80 percent. Given the frequency of large reductions, default catch limits equal to the previous year's catch limits could increase the risk of overfishing during the time period which default catch limits are implemented. As a result, reducing the default catch limits from the previous year's catch limits is intended to help ensure that overfishing does not occur during the default time period.

Default Catch Limits for Fishing Year 2016

Groundfish assessment updates are anticipated in September 2015, and these assessments are expected to be used to set catch limits for the 2016 fishing year beginning on May 1, 2016. However, due to the timing of these assessments, the Council's management action that will adopt the catch limits for the 2016 fishing year is not expected to be completed in time to be implemented by May 1, 2016. As a result, this action sets default limits for the 2016 fishing year that will become effective May 1, 2016, unless otherwise replaced by final specifications (Tables 14 and 15). This action only sets default catch limits for those groundfish stocks that would not have final specifications in place for 2016, absent another management action. If the default catch limits exceed the Council's recommendation for fishing year 2016, then they will be adjusted, as necessary, prior to May 1, 2016.

Table 14—Fishing Year 2016 Default Specifications
[mt, live weight]
Stock | U.S. ABC | Total ACL | Groundfish sub-ACL | Preliminary sector sub-ACL | Preliminary common pool sub-ACL | Midwater trawl fishery
GB Cod | 693 | 660 | 625 | 614 | 12 |
GB Haddock | 8,528 | 8,121 | 7,616 | 7,563 | 53 | 79
SNE/MA Yellowtail Flounder | 245 | 232 | 151 | 124 | 27 |
CC/GOM Yellowtail Flounder | 192 | 184 | 161 | 155 | 5 |
American Plaice | 540 | 514 | 492 | 483 | 9 |
Witch Flounder | 274 | 263 | 213 | 209 | 4 |
SNE/MA Winter Flounder | 587 | 563 | 457 | 402 | 56 |
Redfish | 4,191 | 3,988 | 3,862 | 3,846 | 16 |
N. Windowpane Flounder | 53 | 50 | 35 | na | 35 |
S. Windowpane Flounder | 192 | 184 | 36 | na | 36 |
Ocean Pout | 82 | 77 | 68 | na | 68 |
Atlantic Halibut | 35 | 34 | 22 | na | 22 |
Atlantic Wolffish | 25 | 23 | 22 | na | 22 |

Table 15—Fishing Year 2016 Default Common Pool Trimester Total Allowable Catches
[mt, live weight]
Stock | Trimester 1 | Trimester 2 | Trimester 3
GB Cod | 3.0 | 4.4 | 4.5
GB Haddock | 14.2 | 17.4 | 21.1
SNE/MA Yellowtail Flounder | 5.7 | 10.1 | 11.5
CC/GOM Yellowtail Flounder | 1.9 | 1.9 | 1.6
American Plaice | 2.2 | 3.3 | 3.7
Witch Flounder | 1.2 | 1.3 | 1.8
Redfish | 4.0 | 5.0 | 7.1

7. Sector Carryover

Currently, sectors can carry over up to 10 percent of their unused initial allocation into the next fishing year. However, a 2013 court ruling in Conservation Law Foundation v. Pritzker, et al. (Case No. 1:13-CV-0821-JEB) determined that available sector carryover combined with the total ACL for the upcoming fishing year, or total potential catch, cannot exceed the ABC. As a result, this action specifies that the maximum available carryover may be reduced if up to 10 percent of the unused sector sub-ACL, plus the total ACL for the upcoming fishing year, exceeds the ABC. For example, if 10 percent of sector carryover from the previous year plus the total ACL for the upcoming year was expected to exceed the ABC by 50 mt, then we would reduce the available carryover for each sector. The overall reduction of available carryover would be equal to 50 mt, and this amount would be applied to each sector proportional to the total PSCs of the vessels/permits enrolled in the sector. This measure is intended to reduce the risk of catches exceeding the ABCs that the SSC recommends.

Sector Carryover From Fishing Year 2014 to 2015

Based on the catch limits implemented in this action, we evaluated whether the total potential catch in fishing year 2015 would exceed the proposed ABC if sectors carried over the maximum 10 percent of unused allocation allowed from 2014 to 2015 (Table 16). Under this scenario, total potential catch would exceed the 2015 ABC for all groundfish stocks, except for GOM haddock. As a result, we expect we will need to adjust the maximum amount of unused allocation that a sector can carry forward from 2014 to 2015 (down from 10 percent). However, it is possible that not all sectors will have 10 percent of unused allocation at the end of the 2014 fishing year. We will make the final adjustment to the maximum carryover possible for each sector based on final 2014 catch for the sectors, each sector's total unused allocation, and proportional to the cumulative PSCs of vessels/permits participating in the sector. We will announce this adjustment as close to May 1, 2015, as possible.

Based on the catch limits adopted in this final rule, the de minimis carryover amount for the 2015 fishing year will be set at the default one percent of the 2015 overall sector sub-ACL. The overall de minimis amount will be applied to each sector based on the cumulative PSCs of vessels/permits participating in that sector. If the overall ACL for any allocated stock is exceeded for the 2015 fishing year, the allowed carryover harvested by a sector, minus its specified de minimis amount, will be counted against its allocation to determine whether an overage, subject to an AM, occurred.

Table 16—Evaluation of Maximum Carryover Allowed From Fishing Year 2014 to 2015
[mt, live weight]
Stock | 2015 U.S. ABC | 2015 Total ACL | Potential carryover (10% of 2014 sector sub-ACL) | Total potential catch (2015 total ACL + potential carryover) | Difference between total potential catch and ABC
GB Cod | 1,980 | 1,886 | 174 | 2,060 | 80
GOM cod | 386 | 366 | 81 | 447 | 61
GB Haddock | 24,366 | 23,204 | 1,705 | 24,909 | 543
GOM Haddock | 1,454 | 1,375 | 43 | 1,418 | −36
SNE Yellowtail Flounder | 700 | 666 | 46 | 712 | 12
CC/GOM Yellowtail Flounder | 548 | 524 | 46 | 570 | 22
Plaice | 1,544 | 1,470 | 136 | 1,605 | 61
Witch Flounder | 783 | 751 | 60 | 811 | 28
GB Winter Flounder | 2,010 | 1,952 | 336 | 2,287 | 277
GOM Winter Flounder | 510 | 489 | 68 | 558 | 48
SNE/MA Winter Flounder | 1,676 | 1,607 | 106 | 1,714 | 38
Redfish | 11,974 | 11,393 | 1,052 | 12,445 | 471
White Hake | 4,713 | 4,484 | 425 | 4,909 | 196
Pollock | 16,600 | 15,878 | 1,314 | 17,192 | 592
Note. Carryover of GB yellowtail flounder is not allowed because this stock is jointly managed with Canada.

8. 2015 Annual Measures Under Regional Administrator Authority

The FMP gives us authority to implement certain types of management measures for the common pool fishery, the U.S./Canada Management Area, and Special Management Programs on an annual basis, or as needed. This action implemented a number of these management measures for the 2015 fishing year. These measures are not part of Framework 53, and were not specifically proposed by the Council. We are implementing them in conjunction with Framework 53 measures in this final rule for expediency purposes, and because they relate to the catch limits proposed in Framework 53.

Common Pool Trip Limits

The initial fishing year 2015 days-at-sea (DAS) possession limits and maximum trip limits for common pool vessels are included in Tables 17 and 18. These possession limits were developed after considering changes to the common pool catch limits, catch rates of each stock during 2014, and other available information. During the fishing year, we will adjust possession and trip limits, as necessary, to prevent common pool catch limits from being exceeded.

Table 17—Initial Fishing Year 2015 Common Pool Possession and Trip Limits
Stock | Possession and trip limits
GB Cod (outside Eastern U.S./Canada Area) | 2,000 lb (907 kg) per DAS, up to 20,000 lb (9,072 kg) per trip.
GB Cod (inside Eastern U.S./Canada Area) | 100 lb (45 kg) per DAS, up to 500 lb (227 kg) per trip.
GOM Cod | 50 lb (23 kg) per DAS, up to 200 lb (91 kg) per trip.
GB Haddock | 25,000 lb (11,340 kg) per trip.
GOM Haddock | 50 lb (23 kg) per DAS, up to 200 lb (91 kg) per trip.
GB Yellowtail Flounder | 100 lb (45 kg) per trip.
SNE/MA Yellowtail Flounder | 2,000 lb (907 kg) per DAS, up to 6,000 lb (2,722 kg) per trip.
CC/GOM Yellowtail Flounder | 1,500 lb (680 kg) per DAS up to 3,000 lb (1,361 kg) per trip.
American plaice | Unlimited.
Witch Flounder | 1,000 lb (454 kg) per trip.
GB Winter Flounder | 1,000 lb (454 kg) per trip.
GOM Winter Flounder | 1,000 lb (454 kg) per trip.
SNE/MA Winter Flounder | 3,000 lb (1,361 kg) per DAS, up to 6,000 lb (2,722 kg) per trip.
Redfish | Unlimited.
White hake | 1,500 lb (680 kg) per trip.
Pollock | 10,000 lb (4,536 kg) per trip.
Atlantic Halibut | 1 fish per trip.
Windowpane Flounder | Possession Prohibited.
Ocean Pout | Possession Prohibited.
Atlantic Wolffish | Possession Prohibited.

Table 18—Initial Fishing Year 2015 Cod Trip Limits for Handgear A, Handgear B, and Small Vessel Category Permits
Permit/Stock | Trip limit
Handgear A—GOM Cod | 50 lb (23 kg) per trip.
Handgear A—GB Cod | 300 lb (136 kg) per trip.
Handgear B—GOM Cod | 25 lb (11 kg) per trip.
Handgear B—GB Cod | 75 lb (34 kg) per trip.
Small Vessel Category | 300 lb (136 kg) of cod, haddock, and yellowtail flounder combined; maximum of 50 lb (23 kg) of GOM cod and 50 lb (23 kg) of GOM haddock within the 300-lb (136-kg) combined trip limit.

Closed Area II Yellowtail Flounder/Haddock Special Access Program

This action allocates zero trips for common pool vessels to target yellowtail flounder within the Closed Area II Yellowtail Flounder/Haddock Special Access Program (SAP) for fishing year 2015. Vessels could still fish in this SAP in 2015 to target haddock, but must fish with a haddock separator trawl, a Ruhle trawl, or hook gear. Vessels will not be allowed to fish in this SAP using flounder nets. This SAP is open from August 1, 2015, through January 31, 2016.

We have the authority to determine the allocation of the total number of trips into the Closed Area II Yellowtail Flounder/Haddock SAP based on several criteria, including the GB yellowtail flounder catch limit and the amount of GB yellowtail flounder caught outside of the SAP. The FMP specifies that no trips should be allocated to the Closed Area II Yellowtail Flounder/Haddock SAP if the available GB yellowtail flounder catch is insufficient to support at least 150 trips with a 15,000-lb (6,804-kg) trip limit (or 2,250,000 lb (1,020,600 kg)). This calculation accounts for the projected catch from the area outside the SAP. Based on the proposed fishing year 2015 GB yellowtail flounder groundfish sub-ACL of 429,240 lb (194,700 kg), there is insufficient GB yellowtail flounder to allocate any trips to the SAP, even if the projected catch from outside the SAP area is zero. Further, given the low GB yellowtail flounder catch limit, catch rates outside of this SAP are more than adequate to fully harvest the 2015 GB yellowtail flounder allocation.

9. Fishing Year 2015 Northern Windowpane Flounder Accountability Measure

For data reported through April 14, 2015, estimated catch of northern windowpane flounder is 239 mt, which is 166 percent of the total ACL (144 mt) and 118 percent of the OFL (202 mt). Of this estimated catch, the commercial groundfish fishery has caught 156 mt, and the scallop fishery has caught 83 mt. This catch estimate does not include catch from any other non-groundfish fisheries because inseason catch information is not available. However, catch from these components is typically very low.

We are required to implement an AM for northern windowpane flounder in the year immediately following an overage if reliable data indicate that the total ACL has been exceeded. As a result, this final rule implements an AM for northern windowpane flounder for fishing year 2015 based on the most recent catch information for 2014. For fishing year 2015, common pool and sector vessels fishing on a groundfish trip with trawl gear are required to use one of the approved selective gears when fishing in the applicable AM area (haddock separator trawl, Ruhle trawl, or rope separator trawl). Because the overage is more than 20 percent, the large gear restricted area is implemented for fishing year 2015 (Figure 2). There are no restrictions on common pool or sector vessels fishing with longline or gillnet gear. In addition, the AM will not affect any non-groundfish vessels because northern windowpane is not allocated to any non-groundfish fishery (e.g., scallop fishery).

An overview of the windowpane AM can be found here: http://www.nero.noaa.gov/sfd/sfdmulti.html. As a reminder, sectors cannot request an exemption from this AM. The AM will remain in place for the entire 2015 fishing year, unless modified through a future action. As long as additional overages do not occur, the AM will be removed at the start of the 2016 fishing year, beginning on May 1, 2016.

10. Daily Catch Reporting for Commercial Groundfish Vessels

In the proposed rule, we highlighted our concern that the low GOM cod catch limit could provide a strong incentive to misreport or underreport catch on unobserved trips. Currently, commercial groundfish vessels that declare their intent to fish in multiple broad stock areas are required to submit trip-level catch reports via the VMS. However, in the proposed rule, we noted that requiring daily VMS catch reports was one potential tool that could help address our concerns for misreporting. After further consideration, and based on public comments we received, we are, through this final rule, requiring vessels to submit a daily VMS catch report on trips declared into the GOM Broad Stock Area and any other broad stock area (i.e., offshore GB or SNE) on the same trip. This reporting requirement is effective on May 1, 2015.

In Amendment 16 to the FMP, the Council recommended requiring daily VMS catch reports for vessels that declare their intent to fish in multiple broad stock areas. Amendment 16 also gave NMFS the discretionary authority to modify this reporting requirement, as we determined was necessary to appropriately monitor the ACLs, while also reducing unnecessary duplication. At the time we implemented Amendment 16, we determined that only trip-level catch reports were necessary for vessels that declared their intent to fish in multiple broad stock areas, and we implemented this requirement beginning for the 2010 fishing year.

In light of the GOM cod catch limit, we determined that daily VMS catch reports for trips declared into the GOM and other broad stock areas on the same trip will help ensure more accurate apportionment of cod catch to the GOM and GB stock areas, help enforcement efforts, and more effectively control mortality on the GOM cod stock. We also expect that the daily VMS catch report may promote more accurate VMS trip declarations because only vessels with a true intent of fishing in the GOM will declare into this area given the daily reporting requirement.

Vessels subject to the daily VMS catch report requirement are not required to also submit a trip-level catch report. The same information currently required for trip-level catch reports will be required for the daily catch reports, namely a good-faith estimate of the amount of each regulated groundfish species retained (in pounds, landed weight) and the total amount of all species retained (in pounds, landed weight), including groundfish species and species managed by other FMPs, from each broad stock area. For applicable trips, daily VMS catch reports must be submitted for each calendar day of the trip (midnight to midnight), and must be submitted by 0900 hr of the following day.

The requirement to submit a daily VMS catch report does not apply to vessels that declare their intent to fish in multiple broad stock areas, but not the GOM. These vessels are still only required to submit a trip-level catch report. For example, if a vessel declares into the offshore GB and SNE/MA Broad Stock Areas, it would only be subject to a trip-level report. This is intended to prevent unnecessary duplication. Most of our current concerns for catch attribution and compliance are in light of the GOM cod catch limit, and for trips fishing in both the GOM and GB broad stock areas. As a result, we determined that requiring a daily VMS catch report for vessels declared into multiple areas, but not into the GOM, was not necessary at this time.

11. Regulatory Corrections Under Regional Administrator Authority

The following changes to the regulations are being made to correct references, inadvertent deletions, and other minor errors.

In § 648.14(k)(7), the reference to the GOM Cod Spawning Protection Area (Whaleback) is corrected. This change was overlooked in a previous management action.

In § 648.14(k)(12) and (13), the introductory text is revised to clarify that the general restrictions listed in these paragraphs apply to any person.

In § 648.87(b)(1)(i)(C)(2), the reference to the sector AM provision is corrected.

In § 648.89(f)(1), the reference to special provisions for recreational catch evaluation for fishing years 2010 and 2011 are removed. These provisions are no longer relevant.

In § 648.90(a)(2)(i), the reference to a special provision for the biennial review for 2008 and 2009 is removed. This provision is no longer relevant.

In § 648.90(a)(2)(viii), a reference is corrected that was overlooked during the implementation of a previous FMP action.

In § 648.90(a)(5)(i), this rule corrects a spelling error.

Comments and Responses on Measures Proposed in the Framework 53 Proposed Rule

We received 48 comments during the comment period on the Framework 53 proposed rule. Public comments were submitted by the Council, 2 state marine fisheries agencies, 5 commercial fishing organizations, 1 groundfish sector, 7 commercial fishermen, 1 recreational fishing organization, 24 recreational fishermen, 4 non-governmental organizations (NGOs), and 3 individuals. We requested specific comment on several measures proposed in Framework 53, including some aspects of the GOM cod catch limit and the GOM cod protection measures. Responses to the comments received are below, and, when possible, responses to similar comments on the proposed measures have been consolidated.

Status Determination Criteria

Comment 1: Two state marine fisheries agencies supported the revised status determination criteria.

Response: We agree, and are implementing these changes in this final rule. The revised status determination criteria for GB yellowtail flounder, as well as the updated numerical estimates of the status determination criteria for other groundfish stocks, incorporate the results of the 2014 assessments for these stocks. As a result, these revisions are based on the best scientific information available, and will help ensure the appropriate catch limits are set for these stocks.

Fishing Year 2015 U.S./Canada Quotas

Comment 2: One state marine fisheries agency supported the fishing year 2015 shared U.S./Canada quotas for eastern GB cod, eastern GB haddock, and GB yellowtail flounder.

Response: We agree, and this final rule implements these quotas for fishing year 2015. The 2015 shared U.S./Canada quotas are based on the results of the 2014 Transboundary Resources Assessment Committee assessment, which represents the best scientific information available. These quotas are also consistent with the recommendations of the TMGC and the SSC.

Fishing Year 2015-2017 Catch Limits (Excluding Gulf of Maine Cod)

Comment 3: Two state marine fisheries agencies, one commercial fishing organization, two recreational fishermen, and one individual supported the fishing years 2015-2017 catch limits for groundfish stocks. One recreational fisherman reported catching much less GOM winter flounder in recent years.

Response: We agree, and are implementing these catch limits for fishing years 2015-2017. These catch limits are based on the 2014 assessments for these stocks, which represent the best scientific information available, and are consistent with the SSC's recommendations and conservation objectives. Assessment updates are scheduled for 2015 for all of these stocks, which will provide the opportunity to update the catch limits implemented in this final rule for fishing year 2016 and beyond.

The results of the 2014 assessment update for GOM winter flounder show large declines in the survey indices in recent years. Based on the assessment, the GOM winter flounder catch limits in this action are a 50-percent reduction compared to 2014. This appears to corroborate the commenter's observation of catching much less GOM winter flounder in recent years. The assessment peer review panel expressed concerns that recent biomass estimates substantially decreased despite relatively low catch, and reasons for this apparent decline are not known. Available catch information indicates that the majority of GOM winter flounder catch comes from the same statistical areas as the majority of the GOM cod catch. As a result, the substantial reduction in the GOM cod catch limit is expected to affect catch of GOM winter flounder.

Comment 4: One commercial fishing organization, one groundfish sector, and one commercial fisherman opposed the catch limits for GB winter flounder, and noted that the catch limits are overly restrictive. The commercial fishing organization also commented that the Council adopted a 7-year rebuilding program for GB winter flounder with the intention of extending it to 10 years, if necessary, and that a 7-year trajectory is unnecessarily restrictive. The groundfish sector commented that the large reduction will have a negative economic impact on New Bedford.

Response: We recognize that the reduction in the catch limit for GB winter flounder may be restrictive for groundfish vessels, particularly in light of other substantial reductions for key groundfish stocks that have been implemented in recent years. The economic impacts analysis for this action predicts that GB winter flounder will generate the third most revenue of all groundfish stocks for fishing year 2015 (following GB haddock and pollock, respectively), and that the groundfish fishery will fully utilize its available GB winter flounder quota. Although not fully captured in the economic analysis, selective gear requirements for northern windowpane flounder may reduce profitability for groundfish vessels targeting GB winter flounder. However, the catch limits are based on the 2014 assessment update for this stock, which is the best scientific information available, and are consistent with the SSC's recommendation.

Amendment 16 to the FMP adopted a 7-year rebuilding program for GB winter flounder with a 75-percent probability of rebuilding by 2017. This shorter time period and higher probability were adopted to provide additional flexibility in the event stock rebuilding lagged behind the planned rebuilding trajectory. However, it is unclear whether this would be the case for GB winter flounder.

Based on the results of the 2014 assessment, estimated biomass for 2013 is approximately 85 percent of the biomass target. Catch projections also indicate that the stock has a 76-percent probability of rebuilding by 2017 if catches for the next 3 years are set based on Frebuild. Thus, it appears this stock is on its planned rebuilding trajectory. The SSC recommended ABCs based on Frebuild, and did not note any reason to depart from this approach. Further, although the GB winter flounder rebuilding program was not considered in Framework 53, given the retrospective pattern in the assessment, the PDT noted that the conservative rebuilding approach (higher probability) may be appropriate given the revised lower biomass estimates from the 2014 assessment. In any event, we can only approve or disapprove Framework 53 measures. Because the Council did not consider, or approve, extending the rebuilding timeframe for GB winter flounder in Framework 53, such a change is outside the scope and authority of this action.

Comment 5: Although supportive of the GOM haddock catch limits included in this action, one commercial fishing organization noted concerns that strong year classes were down-weighted in the stock assessment, and that GB/GOM stock mixing is largely unaccounted for as well.

Response: We acknowledge uncertainties around recent year classes, and the possibility of mixing between the GB and GOM haddock stocks. However, these issues were examined in the 2014 benchmark assessment for GOM haddock. The PDT and SSC also completed a review of haddock stock mixing, and this analysis was reviewed during the 2014 assessment. Based on the examination of these issues, the 2014 assessment appropriately accounted for year class uncertainty and mixing, and the peer review panel concluded this was the best scientific information available.

The results of the 2014 stock assessment for GOM haddock indicate that the 2012 year class is strong. However, the size of this potentially large year class was identified as the largest source of uncertainty in the assessment, primarily because it is based on only two surveys. The final model did constrain recruitment estimates in the last 3 years of the time series. This type of adjustment is intended to offset uncertainties due to the low confidence in the survey observations that are not yet substantiated by fishery-dependent data. Although the 2012 year class appears strong, this estimate is still highly uncertain, and the adjustment helps prevent overly optimistic results that could occur from anomalous survey tows. The assessment did explore sensitivity runs that further down-weighted this year class; however, these sensitivity runs were not used to develop the fishing years 2015-2017 catch limits implemented in this action.

We are closely monitoring stock indicators for GOM haddock to gauge if initial indications of a strong 2012 year class are substantiated. The fall 2014 survey indices have increased relative to 2013, and this is likely a function of the signal from incoming year classes. We expect that the 2015 assessment update for GOM haddock will provide additional information about the absolute size of the 2012 year class. However, recent survey indices appear to support the initial indications of a strong 2012 year class.

While it is true that the assessment model does not account for mixing, this issue was examined during the 2014 benchmark assessment. The assessment examined multiple sources of evidence that indicated the annual percent mixing from GB to GOM is low (less than 0.8 percent), but there is considerable uncertainty regarding the degree of mixing. Both the peer review panel and the SSC noted the significant risk to GOM haddock that could occur if the wrong mixing rate is assumed, and ultimately concluded that additional research is needed to determine the stock movement rates before incorporating mixing into the assessment model.

Gulf of Maine Cod Assessment

Comment 6: Two commercial fishing organizations opposed the process used for the 2014 assessment update. The commenters noted that the process was not transparent, and that we only secured an ad-hoc peer review of the assessment after it had been completed. One commercial fishing organization noted that Framework 53 was largely intended to address northern windowpane flounder, and that the 2014 assessment for GOM cod disrupted this work.

Response: We acknowledge that the 2014 assessment for GOM cod was not scheduled, and that stakeholders did not expect to receive updated stock information. In recent years, both the Council and stakeholders have frequently requested more timely information on stock conditions, as well as advanced notice when we see early indications of changes in stock condition. As a result, we have undertaken a number of efforts to develop a more efficient process for generating information on stock status. In 2014, after examining the most recent survey data for GOM cod, we determined that all major indicators of stock health appeared to have deteriorated since the 2012 assessment. Catch and age data for 2012 and 2013 were also available at the time and used to conduct the 2014 stock assessment update. The intent of undertaking the update was part of our larger effort to provide early indications of changes in stock conditions. Once the preliminary results of the assessment update were clear, we shared the information with the Council, and then sought the Council's assistance to conduct a peer review of the stock assessment.

We recognize that recent AMs for northern windowpane flounder have reduced yield of other groundfish stocks on GB. The Council did consider management measures for northern windowpane flounder in Framework 53, including an allocation of this stock for the scallop fishery. However, the Council ultimately took no action on these measures because, as noted in the Council's analysis, it determined that they would not have sufficiently addressed the goal of increasing catch accountability for individual fishery components. Further, in lieu of any changes in Framework 53, the Council set a 2015 priority to review windowpane flounder management, and, depending on the outcome of that review, the Council may potentially identify revisions to the existing management measures.

Comment 7: One commercial fisherman, two recreational fishermen, and two commercial fishing organizations commented that, although GOM cod biomass is low, the 2014 assessment results are too pessimistic. These commenters noted that fishermen are reporting an increase in relative cod catch, and that they are catching more cod in areas not recently known for cod.

Response: Throughout the development of Framework 53, we have continued to hear from commercial fishermen that cod catches, while still low, have increased relative to recent years. Analysis from the PDT shows a few signs of high cod tows in the commercial fishery. However, available catch data indicate that catch per unit effort has continued to decline through 2014. These data also show that the spatial re-distribution of cod catch patterns in 2013 and 2014 were primarily the result of a spatial shift in fishing effort. Catch efficiency of cod is greater in the western Gulf of Maine, and, in response to catch limit reductions in fishing year 2013, many vessels shifted effort east as one way to avoid cod. Catch data indicate that the proportion of GOM cod caught from the western GOM declined coincident with an easterly shift in fishing effort. Although it is difficult to distinguish trends in catch per unit effort from declining catch limits, the available data do not appear to support an increased availability of GOM cod. However, if there has been a recent increase in GOM cod, we expect that this increase would be captured in the trawl surveys, and incorporated into subsequent assessments.

Comment 8: One NGO commented that the 2014 assessment update did not take a precautionary approach for estimating recruitment. Another NGO commented on the potential for GOM cod to suffer depensation effects at such low biomass levels.

Response: We disagree that the assessment did not take a precautionary approach for estimating recruitment. One term of reference for the peer review panel of the 2014 assessment was to perform short-term catch projections that accounted for recent recruitment. The peer review panel concluded that the recruitment protocol for the 2014 assessment update was consistent with the approved benchmark formulation, which assumes that recruitment success is compromised under current SSB levels. Additionally, for the 2014 assessment, age-1 recruitment was estimated using the geometric mean of the most recent 5 years (2009-2013), as opposed to the most recent 10 years, in further recognition of the lower recruitments in recent years. These catch projections using the 5-year geometric mean were used as the basis for the catch advice for fishing years 2015-2017 that we are implementing in this final rule.

During the 2014 assessment, and the development of this action, there was some discussion on the potential for depensation given the very low biomass for GOM cod. Depensation can be caused by several factors, including reduced recruitment at lower SSB levels, reduced egg production or survival when age structure of the spawning population is truncated, or increased predation. As noted above, the catch projections do include the potential for recruitment to be compromised under certain SSB levels. This adjustment was intended to help account for possible depensation effects. Additionally, the 2014 assessment noted the potential for further declines in biomass and truncation of age-structure to affect future recruitment success, and that catch projections could be optimistic. These uncertainties were considered in the development of catch advice for GOM cod and additional protection measures that are implemented in this final rule, as described elsewhere in this preamble, as well as corresponding measures for sectors that are implemented in the final rule for 2015 and 2016 Sector Operations Plans and Contracts.

Comment 9: One commercial fishing organization noted concerns that the stock assessment does not adequately capture the specific geographic stock components for GOM cod.

Response: The 2012 benchmark assessment for GOM cod identified multiple topics that warranted further investigation, including cod stock structure. Since the 2012 benchmark assessment, a workshop was held on stock structure of cod in the GOM region, and this workshop concluded that there are three genetic stocks. Although some workshop participants concluded there was sufficient evidence to indicate that the current management units should be revised, the workshop was not able to reach any conclusions on the most appropriate management response. Following this workshop, additional information has become available on cod stock structure, and the Council has also set a 2015 priority to examine how stock structure may affect management.

The peer review panel for the 2014 assessment update discussed all of the available information on cod stock structure, and noted that this issue should be further considered in a benchmark assessment. In providing catch advice for fishing years 2015-2017, the SSC also reiterated the importance of continuing the evaluation of cod stock structure, and that this work should be completed as soon as possible. Although recognizing that there are uncertainties in any stock assessment, we determined that the assessments relied on for this action are the best scientific information available. Cod stock structure, along with other topics identified for the GOM cod assessment, will continue to be examined. However, it should be noted that, currently, the GOM cod assessment scheduled for September 2015 is an operational assessment, and not a benchmark assessment.

Fishing Years 2015-2017 Gulf of Maine Cod Catch Limits

Comment 10: The Council, two state marine fisheries agencies, and three commercial fishing organizations supported the proposed GOM cod catch limits. Although supportive of the catch limit, one commercial fishing organization disagreed with our interpretation that an ABC of 386 mt was not strictly based on an Frebuild approach. This organization also commented that catch projections used to develop catch advice assumed a catch of 1,470 mt for 2014, and the realized 2014 catch is likely lower than this value.

Response: For all of the reasons previously discussed in this preamble, we are implementing an ABC of 386 mt in this final rule. We recognize that there may be disagreements on how to characterize an ABC of 386 mt relative to the various provisions of the ABC control rule. However, based on the best scientific information available, and the SSC's final report, we determined that an ABC of 386 mt is consistent with Magnuson-Stevens Act requirements. Based on updated catch projections, this ABC will end overfishing and will not jeopardize the stock's ability to rebuild by 2024. Further, because no peer review body has been able to conclude that any scenario is more plausible than any other, an ABC of 386 mt appropriately incorporates all of the available catch projections. The updated catch projections show little difference in the future catches and biomass between an ABC of 386 mt and an ABC of 200 mt, in part because catch limits would likely need to be set lower under the 386-mt scenario in the out years of the rebuilding period than those needed under 200 mt.

The PDT did explore the sensitivity of catch projections to the 2014 catch assumption. One sensitivity run was completed that assumed a 2014 catch of 1,000 mt instead of 1,470 mt. This sensitivity analysis indicated that a lower 2014 catch would result in approximately 60 mt more catch in 2015. The PDT did not evaluate the likelihood that catch would be 1,000 mt, however, and this sensitivity analysis was not generated for use in providing 2015 catch advice.

Comment 11: The Council and one state marine fisheries agency noted concerns that we highlighted uncertainties and requested specific comments on various aspects of the ABC in the proposed rule, and that this appears to conflict with the SSC process for developing ABC recommendations.

Response: We give great weight to the SSC's recommendation. The SSC is charged with providing scientific advice to the Council, including ABC recommendations that will meet Magnuson-Stevens Act requirements. We recognize that the SSC considered its catch advice for GOM cod carefully, and thoroughly reviewed the available information. However, as specified in the Magnuson-Stevens Act, we must ensure that any fishery management plan is carried out in accordance with the provisions of the Act and the National Standards. In order to make a final determination, and as part of the public rulemaking process, we must carefully examine the available information and seek any clarifications necessary to ensure final measures are consistent with applicable requirements. In doing this, it provides the public additional opportunity to comment on the issues and respond to any concerns that we raise. We must then evaluate all comments that we receive during the proposed rule comment period together with the SSC's deliberations, analysis of the proposed measures, and the best scientific information available. For these reasons, we considered it appropriate to raise our concerns regarding the SSC's recommendation in order to make a final determination on the GOM cod catch limits adopted in this rule.

Comment 12: Three NGOs opposed an ABC of 386 mt, and instead supported an ABC of 200 mt. These commenters asserted that an ABC of 386 mt was above the level associated with Frebuild, that it would fail to rebuild the stock by the rebuilding plan end date of 2024, and, as a result, was not consistent with National Standard 1, Amendment 16, and § 304(e) of the Magnuson-Stevens Act. These commenters noted concerns about the retrospective pattern in the assessment and the past performance of catch projections.

Response: We understand the concerns about GOM cod raised by the commenters, and we noted many of these concerns in the proposed rule. GOM cod stock status is poor and appropriate measures must be implemented to ensure conservation objectives are met. As we highlighted during the development of Framework 53, and in our approval of an ABC of 386 mt, we remain concerned for GOM cod, and are proceeding with the caveat that the ABC for the 2016 and 2017 fishing years must be reevaluated in light of the September 2015 assessment for this stock. The ABC adopted in this action is a complex balance between conservation objectives and other Magnuson-Stevens Act requirements that we must take into account.

The development of the ABC adopted in this action is described earlier in the preamble of this rule, and the proposed rule, and is only briefly summarized again here. During the 2014 assessment update, rebuilding catch trajectories were updated based on the new rebuilding program adopted in Framework 51 to the FMP with an end date of 2024. These rebuilding catch projections assumed a constant F for the remaining 9 years of the rebuilding plan. The PDT initially presented these Frebuild projections completed for the 2014 assessment update to the SSC, as well as an option to set a 200-mt constant catch, which was based on the two projection scenarios that indicated rebuilding was possible. The PDT updated the catch projections with the 200-mt constant ABC option, and these projections indicated the stock would still rebuild by 2024. The SSC recommended this provisional ABC of 200 mt, but noted that it was not consistent with the development of the OFL, which incorporated all three catch projections. As a result, the SSC requested additional information from the PDT to consider incidental catch in its ABC recommendation in order to incorporate all three plausible catch projection scenarios, as well as the control rule provision that specifies the ABC should be based on incidental bycatch if rebuilding cannot occur, even in the absence of fishing mortality.

Updated catch projections indicate that the stock can rebuild by 2024 under an ABC of 386 mt for fishing years 2015-2017. Based on our examination of additional catch projections, we determined there is likely little functional biological difference between 200 mt and 386 mt. This is, in part, because lower catches may be necessary in the out years of the rebuilding program under the 386-mt ABC scenario compared to the 200-mt scenario. Based on the available projections, and analysis of the biological impacts of this action, we determined that an ABC of 386 mt is sufficiently below the OFL to prevent overfishing, and will not jeopardize rebuilding progress.

We recognize the recent changes in the perception of stock status and uncertainties in groundfish catch projections. Multiple analyses have been completed that highlight the past performance of groundfish catch projections, and the SSC considers this information each time it provides catch advice for groundfish stocks. In many instances, a constant catch strategy has been used to help offset these uncertainties, and provide an increasingly larger scientific uncertainty buffer as the projections move further from the terminal year of the assessment. The SSC applied this strategy to GOM cod in its recommendation for fishing years 2015-2017. However, more importantly, in providing its catch advice, the SSC noted that pending the results of the 2015 assessment, it would reconsider its catch advice for fishing year 2016 and beyond.

As we noted earlier in the preamble of this rule, we are approving an ABC of 386 mt with the expectation that the catch limits in this final rule will be reassessed for fishing years 2016 and beyond due to the GOM cod assessment update scheduled for September 2015. When considering all three of the available catch projection scenarios, an ABC of 386 mt was a higher option than other catch outputs, most notably the provisional recommendation of 200 mt. However, the 2015 assessment provides an opportunity to closely monitor the status of this stock in order to make any necessary adjustments to the catch limits adopted in this rule for future fishing years. Our approval of the GOM cod ABC, therefore, is, in effect, only approval for the first year (2015) of the remaining rebuilding time period. As a result, we determined that the uncertainties in projection and concerns for the past performance are mitigated given the pending assessment.

Although the Council could have considered, and recommended, an ABC lower than the SSC's recommendation of 386 mt, a lower ABC would not have mitigated economic impacts consistent with Magnuson-Stevens Act national standards and other requirements. In this case, to ignore an alternative that meets conservation objectives of the Magnuson-Stevens Act, and that could help mitigate some of the substantial economic impacts this action is expected to have, would not be consistent with National Standard 8, and could jeopardize achieving optimum yield for the groundfish fishery.

Further, analysis prepared for this action indicates that a lower GOM cod catch limit may create an economic incentive to misreport catch. This incentive may increase under a 200-mt ABC compared to an ABC of 386 mt. Even a slight increase in misreporting could diminish the benefits of a lower catch limit because of the relatively small biological benefit expected from an ABC as low as 200 mt when compared to 386 mt. We have continued to reiterate the importance of controlling fishing mortality, and agree with commenters that this is necessary to help ensure conservation objectives are met for GOM cod. As a result, along with an ABC of 386 mt, we are also implementing an additional reporting requirement for groundfish vessels to help ensure catch remains within this limit, and have also made adjustments to sector exemptions for fishing year 2015 in light of GOM cod stock status.

Comment 13: One NGO commented that the proposed rule and supporting documents inadequately assess the biological impacts of the ABC (386 mt).

Response: We disagree. The final report for the 2014 assessment update, supporting analyses developed by the PDT, Council and SSC deliberations, and the Framework 53 Environmental Assessment provide a thorough examination of the impacts of the ABC implemented in this final rule. The development of a GOM cod ABC occurred over the course of a peer review of the 2014 stock assessment, several PDT meetings, two SSC meetings, two Groundfish Committee meetings, and two Council meetings. All of this information, including summaries of the relevant meetings, is publically available, and all of it was incorporated into the Framework 53 Environmental Assessment, which was made available with the proposed rule for this action.

Further, considering all of the available catch projections, there was a wide range of potential catches and fishing mortality rates examined in the supporting analyses. For example, the 2014 assessment update completed catch projections for various catch alternatives ranging from Frebuild to FMSY. Catch projections from the 2014 assessment update also explored the sensitivity of the projections to different recruitment assumptions to better ensure projections reflected the recent lower observed recruitment.

Additionally, during the development of Framework 53, the SSC provisionally recommended an ABC of 200 mt. Although this ABC was not its final recommendation, the available catch projections provide a comparison between an ABC of 200 mt and an ABC of 386 mt. The biological impacts of 386 mt were also analyzed in the Framework 53 Environmental Assessment and catch projections were updated with an ABC of 386 mt. This analysis also compared the biological impacts of 386 mt to No Action. In the No Action alternative, groundfish vessels would have been unable to fish because catch limits would not have been set for a number of stocks. Under this scenario, catches would not be completely eliminated because incidental bycatch would still occur in other non-groundfish fisheries. However, the analysis concluded that there was little difference between these two scenarios (200 mt and 386 mt), and that the future catches and biomass indicated from the catch projections were relatively similar. The commenter offered no specific reasons or evidence that contradicts this analysis.

Comment 14: Two individual fishermen, one state marine fisheries agency, and three commercial fishing organizations reiterated concerns for the socio-economic impact of the GOM cod ABC. The state marine fisheries agency suggested that the predicted gross revenue losses are likely severe underestimates, and that the economic impacts analysis incorrectly assumed a fluid quota leasing market.

Response: We highlighted similar concerns in the proposed rule, particularly our concern that this final rule will primarily impact small vessels and ports north of Boston (Gloucester, MA, and New Hampshire ports). Some measures are expected to provide marginal economic relief that could increase the viability of the inshore fleet. However, even measures designed to provide additional fishing opportunities will not mitigate all of the substantial economic impacts that are expected from the GOM cod ABC. The economic impacts analysis of this action noted that gross revenue for the groundfish fishery has declined in recent years (from $120 million in fishing year 2011 to $79 million in fishing year 2013). The predicted gross revenue losses for fishing year 2015 (approximately 10 percent) may mask some of the economic impacts to small vessels and ports. However, evaluation of the past performance of the economic model used for analysis suggests that, generally, the predicted gross revenues for a fishing year were relatively close to the realized values. Of course, there are uncertainties in the model, and although the model is intended to capture fishery-wide behavior changes related to catch limit changes, it can over-predict landings under a number of circumstances. With all of this in consideration, the economic impacts analysis concluded that the additional declines forecasted for fishing year 2015 would result in impacts to the entire groundfish fishery even greater than previous GOM cod catch limit reductions.

Reductions in the GOM cod catch limit implemented in previous years resulted in economic losses; however, available information indicates the sector fishery has been able to adapt to some degree. Despite some ability to adapt under previous catch limit reductions, GOM cod was constraining in fishing year 2013. The economic impacts analysis did note that if it becomes difficult for fishermen to avoid GOM cod, the predicted gross revenues could be serious overestimates. Further, although the economic impacts analysis attempts to include the possibility of high GOM cod tows, it does not fully capture these risks. If observed trips encounter unexpected high GOM cod tows, these trips could endanger fishing operations for the entire sector. The quota leasing market, and potential changes in fishing year 2015, were discussed in the full economic impacts analysis, and are not repeated here. However, we recognize the comment that the analysis may not fully capture the current quota leasing market.

Comment 15: One NGO commented that the management uncertainty buffer should be increased to account for potential observer bias. Another NGO commented that GOM cod needs realistic buffers, but didn't specifically comment on whether the management uncertainty buffers for GOM cod should be adjusted.

Response: Each time catch limits are set, the PDT reviews the management uncertainty buffers used for each fishery component and recommends any necessary adjustments. For Framework 53, the PDT reviewed the current management uncertainty buffers, as well as previous analysis completed in support of Framework 50 to the FMP, which set GOM cod catch limits for fishing years 2013-2015.

Both the PDT and the Council have periodically discussed the possibility of increasing the buffers due to evidence that fishing behavior may differ on observed and unobserved trips, possibly resulting in an underestimate of discards. However, to date the PDT has been unable to estimate the amount of suspected bias of observed trips. Further, the PDT concluded that the direction of the bias can change year to year, for reasons that are unknown. As a result, the PDT has been unable to determine whether any adjustments to the existing buffers would be warranted to address potential bias. The PDT concluded that no new information is available at this time that would warrant any changes to the buffers previously adopted in Framework 50 to the FMP, and recommended no changes to the management uncertainty buffers.

Comment 16: Multiple commenters suggested various types of management approaches in light of GOM cod stock status and the fishing year 2015 catch limit. Suggestions included splitting the GOM cod quota into biannual allocations or trimester, implementing dynamic inseason closures for bycatch avoidance, and banning all fishing for, or closing the directed fishing for, GOM cod. One NGO requested that we initiate a Secretarial amendment, and another has submitted a petition for rulemaking under the Administrative Procedure Act to prohibit commercial and recreational fishing for GOM cod and to limit catch to a level consistent with rebuilding requirements.

Response: Other than the GOM cod possession restriction for the recreational fishery, none of the measures suggested by commenters were proposed in Framework 53, and so are beyond the scope and authority relating to this action because we can only approve or disapprove measures in a framework. In a future action, the Council could develop any combination of management measures it determines are necessary to meet the goals and objectives of the FMP. Additionally, sectors can voluntarily develop GOM cod avoidance mechanisms at any time. In fact, some sectors have already developed additional restrictions for member vessels to help avoid GOM cod and stay within the available allocation for the 2015 fishing year. Although it is still unclear how commercial groundfish vessels will operate in 2015, we expect that the sector fishery, to the extent possible, will continue to find ways to adapt to the new GOM cod catch limit, and target other groundfish stocks.

With the initial 2013 reductions of the GOM cod catch limits, many groundfish vessels were no longer targeting GOM cod, and instead, used available GOM cod quota to access other stocks. Analysis indicates a dramatic decline in targeted GOM cod trips beginning in the 2013 fishing year. As noted earlier in this rule, with an additional 75-percent reduction in fishing year 2015, it is expected that the incentive for sector vessels to take targeted GOM cod trips is virtually eliminated given the extremely low GOM cod allocations that each sector will receive. We are also setting the GOM cod trip limit for the common pool fishery at 50 lb (23 kg) to reduce the incentive to target GOM cod. The combination of commercial measures, along with a prohibition on possession of GOM cod for the recreational fishery, is expected to, in effect, result in a “bycatch only” fishery.

Section 304 of the Magnuson-Stevens Act provides the Secretary of Commerce with the authority to prepare, and implement, a fishery management plan if the Council fails to develop a plan after a reasonable period of time, or fails to submit a plan that meets necessary conservation and management objectives. We have carefully considered the available information, and determined that all of the management measures implemented in this final rule, along with corresponding measures implemented through the final rule for 2015-2016 Sector Operations Plans and Contracts and 2015 recreational measures, will provide sufficient protection for GOM cod to prevent overfishing and contribute to rebuilding consistent with Magnuson-Stevens Act requirements. Further, as already noted, we will continue to work with the Council to ensure that GOM cod management measures are reviewed, or updated, as needed. As a result, a Secretarial amendment, at this time, is unnecessary and unwarranted.

The petition for rulemaking is under consideration, and we will respond to this request consistent with the applicable requirements of the Administrative Procedure Act.

Comment 17: Two NGOs, one state marine fisheries agency, and two commercial fishing organizations noted concerns for monitoring the low GOM cod catch limit in fishing year 2015. One NGO commented that calculation of the at-sea monitoring coverage level should be at the level of the individual vessel. The two commercial fishing organizations highlighted the importance of electronic monitoring (EM), and that this may provide a way to improve catch accounting. One organization commented that we should implement a requirement to restrict vessels to fishing in a single broad stock area on a trip. The Council also commented in response to the concerns we raised in the proposed rule, and noted that in Amendment 16 to the FMP, the Council provided us with the authority to implement daily catch reporting at any time we deem it necessary.

Response: We agree that adequate monitoring, accounting, and enforcement are essential to help ensure catch limits are effective. A description of at-sea monitoring coverage levels is provided in the final rule for the 2015-2016 Sector Operations Plans and Contracts, and is not repeated here.

We recognize that the low GOM cod catch limit may create an economic incentive to misreport, which could reduce the accuracy of catch apportionment. Although we implemented a single broad stock area requirement in our initial 2014 interim action, this measure can severely restrict some fishing operations, and reduce the ability for groundfish vessels to target healthy groundfish stocks. In our 2014 interim action, we determined that, despite the potential negative economic impacts, the single broad stock area requirement was necessary as a mid-year adjustment for the fishery. The 2014 assessment indicated that, if no action was taken, the measures in place for the 2014 fishing year would have resulted in substantial overfishing. The single broad stock area requirement was intended to help minimize further catch, and ensure the effectiveness of the interim measures. However, a requirement to fish in a single broad stock area is not necessary to ensure the effectiveness of the final measures in this rule. All of the measures in this final rule, including a much lower catch limit, are being implemented at the beginning of the 2015 fishing year, as opposed to a mid-year implementation for the 2014 interim rule. These measures, along with corresponding measures implemented through the final rule for 2015-2016 Sector Operations Plans and Contracts, will provide sufficient protection for GOM cod to prevent overfishing and contribute to rebuilding consistent with Magnuson-Stevens Act requirements.

To address concerns for potential misreporting, we are implementing a daily catch report requirement for vessels fishing in the GOM and other broad stock areas. This requirement is intended to help ensure accurate catch attribution and reduce the incentive for vessels to misreport. As the Council noted in its comment, a daily reporting requirement was recommended by the Council in Amendment 16 to the FMP. Amendment 16 also delegated authority to us to modify the frequency of reporting requirements, as necessary, to help ensure accurate catch accounting. At the time we implemented Amendment 16, we determined that daily reporting was not necessary, and implemented a trip-level reporting requirement for vessels fishing in multiple broad stock areas. However, for reasons described earlier in this rule, we determined daily catch reports are now necessary to help ensure the effectiveness of the measures implemented in this final rule.

We agree that EM has the potential to be an effective monitoring tool in the groundfish fishery, but EM is not yet sufficiently developed at this time. We are currently working to address the challenges to implement EM, including legal requirements and data processing, and are also examining costs associated with EM. We are also working with several groundfish sectors for fishing year 2015 to help address some of the remaining challenges to implement EM. If successful, EM could be fully implemented as a monitoring program for a portion of the groundfish fishery in fishing year 2016.

Comment 18: One commercial fishing organization commented that, in considering incidental catch, the SSC has addressed concerns for misreporting. The commenter noted that in trying to balance all of the plausible scenarios from the assessment, incorporating incidental catch information attempted to identify what level of catch may be required to keep the fishery open without directed cod fishing.

Response: We recognize that the SSC considered incidental catch information to help develop its final ABC recommendation. An ABC of 386 mt for GOM cod is a considerable reduction from the incidental catch estimates generated for fishing year 2013 (500-600 mt). Further, as discussed in other sections of this rule, an ACL of 1,470 mt in fishing year 2013 was constraining for groundfish vessels. Available analysis indicates there was a marked decline in directed GOM cod trips beginning in 2013. Although sector vessels were able to adapt to some extent to this first substantial reduction for GOM cod, the additional reduction in fishing year 2015 will be substantially more challenging. Thus, we expect that an ABC of 386 mt will effectively remove the incentive for commercial groundfish vessels to fish for this stock.

Nevertheless, with such a low GOM cod allocation, and in considering the supporting analysis, the economic incentive to misreport could still be high, particularly if groundfish vessels continue to report an uptick in cod availability. As a result, as previously described, we are implementing an additional reporting requirement for commercial groundfish vessels to help ensure accurate catch attribution.

Gulf of Maine Cod Protection Measures

Protection Closures

Comment 19: One state marine fisheries agency and two commercial fishing organizations supported the GOM cod protection closures. The state marine fisheries agency disagreed with our concerns for April, but noted that it expected we would closely monitor the fishery to understand the consequences of opening April. All of these commenters highlighted the importance of providing GOM cod protections while still affording access to healthy groundfish stocks. One other commercial fishing organization supported all of the closures, but noted concerns for the opening of April closures.

Response: We generally agree with all of these comments, and as described earlier in this preamble, we approved the new GOM cod protection measures. There are some biological and economic trade-offs with the addition of winter and May-June closures and removal of April closures. We recognize the importance of providing access to healthy stocks, and support this objective of the cod closures, as long as it does not result in unanticipated consequences. However, we remain concerned for GOM cod stock status, and the potential negative impact on other groundfish stocks as a result of opening April. We will continue to urge the Council to reconsider April closures in light of these concerns.

We agree with the commenters that it is important to monitor the effectiveness of these closures, and we intend to closely monitor any potential effort shifts to help ensure the overall conservation objectives for these measures are met. To the extent possible, these closures should also be reviewed as new information becomes available to help identify any potential adjustments to these closures. We expect additional spawning research may also provide more information on spawning locations for GOM cod that the Council could use in its decision-making process.

Comment 20: Two NGOs opposed the GOM cod protection closures and commented that the protection closures should be more expansive. One of these NGOs also commented that the protection closures are inadequate under the Magnuson-Stevens Act because they would fail to end overfishing. One commercial fishing organization noted concerns for the opening of April closures.

Response: We share some of the concerns noted by commenters, and we have described these concerns in our approval of the protection closures in this final rule. However, we disagree that the protection closures are inadequate under the Magnuson-Stevens Act. As we described earlier in this rule, updated catch projections indicate that the GOM cod ABC of 386 mt will end overfishing and rebuild the stock. The new protection closures are complementary to this ABC, and are measures in addition to the ACLs and AMs adopted for GOM cod. The additional closures are intended to enhance the effectiveness of these conservation measures by further reducing fishing mortality on spawning aggregations. Any additional benefits realized from the area closures are important, particularly for the benefit of the winter spawning component of GOM cod. While more closures always have the potential for increasing the probability of meeting various conservation objectives, we determined that the closures, along with other management measures adopted for fishing year 2015, are sufficient to prevent overfishing and provide for rebuilding.

The GOM cod protection measures, which include the area closures and the recreational possession restriction, were developed by the Council as a package. In developing these measures, the commercial closures were intended to balance biological and economic objectives resulting from the recommended actions. If the opening of April closures was recommended in isolation, with no additional spring or winter closures, we likely would have disapproved this measure. As stated in the preamble, however, we determined that we could not independently approve or disapprove the recommendations for winter and April without undermining the Council's intent to balancing conservation benefits and impacts on the fishing industry. The addition of winter closures is important because there are currently no protections for this spawning component, and some information suggests that a spawning aggregation is not likely to recover once lost. Despite our concerns for GOM cod with the removal of April closures, there are May and June closures, so the removal of April does not completely eliminate protection of the spring spawning component.

Some of the comments from an NGO noted that the protection closures adopted in this final rule would provide less protection than the status quo in a number of instances. In reviewing and analyzing the impacts of the protection closures, the status quo measures must be put in context for the commercial groundfish fishery. With the adoption of Amendment 16, sector vessels were exempt from a number of the GOM rolling closures because sectors are limited by stock-specific allocations and AMs. As noted in the supporting analysis for this document, although a number of closures are being removed, many of these closures only applied to the common pool fishery, which accounts for less than 2 percent of the fishery. In these instances, the impact of removing the closures is expected to be minimal because the sector fishery is already allowed access to these areas.

Given our concerns for the status of GOM cod, we intend to closely monitor stock indicators and fishery operations. We will continue to work with the Council to ensure that the most appropriate GOM cod protection measures are in place. We expect that the Industry Based Survey for GOM Cod will restart at some point in 2015, and that this survey could provide additional information on cod spawning that the Council could use in the future. Additionally, the protection closures developed and implemented in this action overlap with the Council's Habitat Omnibus Amendment. The Council is working to complete this Amendment, and we will continue to help the Council in this effort to ensure that the goals and objectives of this Amendment are met.

Comment 21: Another commercial fishing organization opposed the closure of block 138 in May because it would restrict haddock and pollock catches, and suggested that this closure should be disapproved, or that only a portion of this block should be closed in May. This organization also commented that true spawning areas can only be identified through acoustic telemetry and passive acoustic monitoring.

Response: As described earlier, the objectives of the protection closures were to reduce fishing mortality and protect spawning aggregations for GOM cod while allowing access to healthy groundfish stocks. The protection measures were designed to re-configure the existing GOM rolling closures. Although available information on spawning was used to help develop the protection closures in this final rule, other information was also used to evaluate the potential biological and economic trade-offs associated with the final measures. Block 138 was closed in the previous GOM rolling closures, and based on the available information, no change was recommended for this closure in Framework 53. Because the Council recommended that the entire block 138 be closed in May, we cannot modify this closure in any way, or only partially approve a portion of the closure, and still be consistent with the Council's intent. However, in a future action, the Council could reconsider this closure, and make any modifications, if warranted.

We disagree that spawning areas can only be identified through acoustic telemetry and passive acoustic monitoring. The Framework 53 Environmental Assessment describes the analytical techniques used to identify times and location of spawning for GOM cod. Identification of times and areas of potential spawning was not based on a single source of information. Multiple sources of information and analytical approaches were used to identify and corroborate spawning locations.

The analyses note that the NEFSC and MA Division of Marine Fisheries trawl surveys have narrow seasonal coverage, which limits their applicability to spawning cod. However, the Industry Based Survey for GOM cod was specifically designed to study stock distribution and demographics of cod, and also recorded spawning condition of cod caught. As a result, the peer review of the Industry Based Survey concluded that one of the primary uses of the survey data was to describe spawning activity of GOM cod. The Framework 53 analyses did note some caveats with the use of the ichthyoplankton survey data, particularly due to the time period of this survey. However, these data were determined to be useful because the areas highlighted as potential spawning locations were similar to the areas identified using trawl survey data.

Comment 22: One NGO commented that it is generally supportive of time-area management for GOM cod, but cautioned that the final protection measures should be supported by the available data. The NGO also noted that we should commit to review the protection closures at a specific time to help ensure that effort shifts from the final measures does not undermine the effectiveness of these measures, or any measures developed by Take Reduction Teams.

Response: We generally agree with this comment. As noted earlier in the preamble of this rule, we have some concerns for the removal of April closures, particularly due to potential effort shifts, and the potential impact on other groundfish stocks. Although the protection measures are subject to review once the GOM cod biomass reaches the biomass threshold, we will continue to urge the Council to reconsider these closures in light of their potential negative impacts on other groundfish stocks, and in light of GOM cod stock status. These closures should also be reviewed as more information becomes available for GOM cod. The 2015 assessment update will provide new information on the status of GOM cod, and we expect additional spawning research will be available in the near future that could help further identify areas important to cod spawning.

Regulations to reduce the potential of serious injury and death of marine mammal species will be in place for the western Gulf of Maine regardless of the GOM cod protection closures. The Harbor Porpoise and Atlantic Right Whale Take Reduction Plans are not predicated on the existence of groundfish closed areas, or the GOM cod protection closures. As a result, it is only necessary to amend these Take Reduction Plans if new information indicates that additional interaction risks to marine mammal species are occurring. The Harbor Porpoise and Atlantic Large Whale Take Reduction Teams meet regularly to monitor the implementation of the final Take Reduction Plans for these species. These teams monitor any changes in the interaction rates and fishing behavior that may result from management actions. Based on this review, the Take Reduction Teams determine if modifications to the Take Reduction Plans are warranted in order to meet the requirements of the Marine Mammal Protection Act and the Endangered Species Act.

Comment 23: One commercial fishing organization commented that hook gear should be allowed in the protection closures because it does not interfere with spawning.

Response: We disagree that hook gear should be allowed in the protection closures. As we noted in the proposed rule, the available research on GOM cod spawning indicates that fishing on spawning cod may affect spawning activity beyond just the removal of fish. Fishing activity may disrupt spawning signals, and, as a result, can reduce spawning success. Additionally, information indicates that if a spawning aggregation is disrupted by fishing activity, it will scatter and not return. Groundfish vessels fishing with hook gear are capable of interrupting spawning aggregations because they are capable of catching cod. Further, the protection closures are also intended to help reduce fishing mortality for GOM cod, and applying these closures to all commercial groundfish vessels was necessary to help ensure this objective is met. Additionally, it is important to note that Handgear A vessels were afforded similar flexibilities as sector vessels, regardless of whether they are fishing in the common pool or a sector. Handgear A vessels are exempt from both the March and October common pool closures.

As indicated in the response to the next comment, we have similar concerns for the potential for other gear types to disrupt spawning, and would support the Council in reconsidering the fisheries and gears that are allowed to fish in the protection areas.

Comment 24: Two commercial fishing organizations and one NGO noted that the list of exempted fisheries allowed into the GOM cod protection closures should be reviewed. One NGO also opposed allowing recreational groundfish vessels into these closure areas.

Response: We highlighted similar concerns in the proposed rule relative to the gears that are allowed in these protection closures. Because fishing activity may disrupt spawning success, we noted that there is a potential for these exempted fisheries to diminish the additional spawning protection that the closures are intended to provide. We would support the Council reviewing the fisheries allowed into these protection closures, and, if warranted, to remove the exception for some of these other fisheries and gears. Alternatively, the Council could also consider including other fisheries and gears for a subset of these protection closures to better protect GOM cod spawning while still providing these fisheries with some flexibility.

As discussed earlier in this rule, the recreational fishery may still fish in these protection closures, similar to the previous GOM rolling closures. Instead, this action implements a prohibition on possession of GOM cod for the recreational fishery to help control fishing mortality of GOM cod for this fishery. The intent of this trade off was to help ensure the recreational fishery continued to have access to healthy groundfish stocks. Because most of the protection closures are inshore, it was expected that recreational vessels would largely not have been able to adjust to these closures due to business operations and safety concerns. Applying these protection closures to the commercial groundfish fishery is an important start to ensuring that spawning aggregations of GOM cod are protected. However, we would support the Council reconsidering whether protection closures, or a subset, should be applied to the recreational fishery.

Recreational Fishery Prohibition on Possession of Gulf of Maine Cod

Comment 25: One commercial fishing organization, two NGOs, one state marine fisheries agency, and one recreational fisherman supported a prohibition on possession of GOM cod for the recreational fishery. The recreational fisherman noted that survival rates of recreational released GOM cod are relatively high. Other comments highlighted that outreach is essential to ensure this measure is effective.

Response: We agree on all of these points, and have approved this measure in this final rule. Updated catch projections indicated that if no adjustment was made to possession restrictions, recreational catch of GOM cod would have exceeded the recreational allocation by 400 percent. During the development of Framework 53, analysis also indicated that non-compliance in the recreational fishery could be as high as 50 percent. In response to this, we have initiated a number of new recreational outreach efforts to help inform recreational anglers of the existing management measures.

Despite the possession restriction implemented in this final rule, projections indicated that the recreational fishery would still likely exceed its GOM cod allocation unless additional measures are implemented. These projections may overestimate the potential recreational effort in 2015, and, if so, could also overestimate GOM cod catch. However, to help ensure that the recreational fishery does not exceed its allocations, we are implementing additional measures under our discretionary authority in a separate rulemaking.

Available information does indicate that the discard mortality of recreationally caught GOM cod is low. Based on the 2012 benchmark assessment, 70 percent of the GOM cod discards from the recreational fishery were expected to survive. A recently conducted study provides additional information that suggests survival rates of released cod could be higher (85 percent).

Comment 26: Eighteen recreational fishermen opposed a prohibition on possession of GOM cod for the recreational fishery. These commenters noted that the recreational fishery has little impact on the GOM cod stock, and that the commercial fishery, particularly draggers, have led to the current GOM cod stock status. Many of these commenters supported a small bag limit for GOM cod, and a few comments supported a bag limit of at least 10 fish. Commenters also expressed concern for the socio-economic impact of this measure.

Response: We disagree. Both the recreational and the commercial groundfish fishery receive an allocation of GOM cod. Both fisheries have AMs, and we must implement management measures that will help ensure that each fishery stays within its allocation. Updated catch projections indicate that, even under zero possession, the recreational fishery would still exceed its allocation for GOM cod in fishing year 2015, unless additional measures are implemented. Additionally, catch projections that assumed a status quo bag limit (9 fish) indicated that recreational catch would exceed the 2015 allocation by more than 400 percent.

We understand concerns for the socio-economic impact of zero possession for the recreational fishery. Other measures for the recreational fishery were considered for this action to help protect GOM cod. However, these measures would not have mitigated economic impacts to the recreational fishery compared to zero possession. The GOM cod closures, if applied to the recreational fishery, would likely have had even greater economic impacts on the fishery. These closures are mainly inshore, and recreational vessels may have been unable to move to alternative areas to fish for other groundfish stocks. Analysis indicated that the total steam time to fish further offshore, around the closures, would have exceeded the standard party/charter trip of 4 or 6 hours.

Zero possession will help ensure that fishing mortality by the recreational fishery is reduced for GOM cod, while still ensuring the recreational fishery has access to other healthy groundfish stocks. The Council can review this measure in any future action, and if warranted could implement different management measures for the recreational fishery, as long as they would still meet conservation objectives, and help ensure that the recreational fishery does not exceed its allocation.

Comment 27: We received six comments from recreational fishermen about various aspects of recreational management measures for the 2015 fishing year, including opposition to the survival rates current used for the recreational caught GOM cod and haddock, the GOM haddock bag limit, the recreational rulemaking process, and recreational gear requirements.

Response: None of these measures were specifically proposed in Framework 53, and therefore are beyond the scope and authority relating to this action. Although this action implements zero possession of GOM cod for the recreational fishery, we are implementing all other recreational measures, including GOM haddock measures, in a separate rulemaking under our discretionary authority to adjustment recreational measures. These measures are intended to prevent the recreational fishery from exceeding its allocations of GOM cod and GOM haddock for the 2015 fishing year. The issues raised by the commenters will be addressed in our separate rule implementing final recreational measures for fishing year 2015.

Default Catch Limits

Comment 28: One state marine fisheries agency and one commercial fishing organization supported the mechanism to establish default catch limits in years when a management action is delayed. The commercial fishing organization commented that default catch limits set at 35 percent of the previous year's value would be extremely restrictive for groundfish vessels, but this was better than the alternative of no catch limits.

Response: We agree, and are implementing this measure in this final rule. We recognize that default catch limits, if implemented, may be extremely restrictive for groundfish vessels. Although the 2015 assessment schedule is expected to delay implementation of the management action for fishing year 2016, this measure is not intended to allow lengthy delays in implementation of final measures. Default catch limits are available as a management tool to prevent disruption to the groundfish fishery, but any default specifications time period should not be allowed to languish. To help ensure that management actions are still implemented as quickly as possible, the default specifications time period is only from May 1 through July 31. If default catch limits were allowed to languish beyond this period, the severely restricted catch limits could prevent optimum yield in the fishery.

Sector Carryover Provision

Comment 29: One state marine fisheries agency supported this change to the carryover provision.

Response: We agree and are implementing the revision to the sector carryover provision in this final rule. The measure is necessary to comply with a recent court ruling, and ensure that the total potential catch does not exceed the ABC for any stock.

Comment 30: One commercial fishing organization expressed concern that the ever changing rules regarding carryover makes it difficult to stabilize business plans, as does the ability for the carryover amount to change year to year.

Response: The revision to the sector carryover provision in this final rule is in response to a recent court ruling, as previously described. We have determined that the carryover provision is now consistent with Magnuson-Stevens Act requirements, and will help ensure that total potential catch does not exceed the ABC for any stock. As a result, we do not anticipate any further modifications of the sector carryover provision, unless the Council chooses to revisit this measure in a future action.

We recognize some of the difficulties that sectors face in trying to plan. To help offset some of the uncertainty, we specified that the default de minimis amount is 1 percent of the overall sector sub-ACL for the upcoming fishing year. If it is necessary to change the default de minimis amount, we will announce this to sectors as soon as we know the recommended ABCs for the upcoming year. Similarly, once ABC recommendations are known for the upcoming year, we will announce the possibility that the maximum carryover amount may need to be adjusted. We cannot make a final determination on the maximum carryover amount until we have final catch information for sectors; however, the initial determination that assumed a maximum of 10-percent carryover provides sectors with an upper bound. We also expect that the years with the greatest uncertainty will be years in which catch limits are dramatically reduced, as we would most likely have to adjust the maximum carryover allowed in those years.

Common Pool Management Measures

Comment 31: One state marine fisheries agency supported the common pool trip limits.

Response: We agree, and are implementing these initial common pool trip limits for fishing year 2015. We will closely monitor common pool catch, and, if necessary, will make appropriate adjustments to the possession and trip limits for common pool vessels. Each year, it is difficult to predict common pool effort, and there is a possibility that some vessels may drop out of a sector and fish in the common pool for fishing year 2015. If this occurs, we may make adjustments to the trip limits to reflect any increases in the number of common pool vessels that are actively fishing.

Comment 32: One commercial fisherman opposed a GOM cod trip limit of 50 lb (23 kg), and instead supported a trip limit of at least 100 lb (45 kg). The commenter noted that a 50-lb (23-kg) trip limit would result in high discards.

Response: We disagree that the GOM cod trip limit should be set at 100 lb (45 kg). The trimester TAC for GOM cod is less than 2 mt for each trimester in fishing year 2015. In previous years, when we set the GOM cod trip limit at 100 lb (45 kg), common pool vessels continued to target the stock, and the GOM area was prematurely closed before the end of the trimester. A 50-lb (23-kg) trip limit will help create an incentive to avoid GOM cod. This trip limit will also help provide continued access to other groundfish stocks by helping to prevent a premature closure of the trimester.

Comment 33: A number of commercial fishermen commented on common pool management measures. Comments included opposition to the current trimester TAC system used for the common pool, the trimester TACs should be divided among trimesters based on recent landings, and that the common pool fishery should receive 10 percent carryover similar to sectors.

Response: None of these measures were considered in Framework 53, and they are beyond the scope and authority relating to this action. Any changes to the existing common pool management measures would have to be developed through the Council process in a future management action. The Council could reconsider common pool management measures at any time provided these measures still met the necessary conservation requirements. For example, the trimester TAC AM system is only one type of reactive AM that the Council may use for the common pool fishery.

The allocation of the common pool sub-ACL was developed as part of Amendment 16, and was based on landings through fishing year 2009. These distributions have been unchanged since the implementation of Amendment 16. However the Council can adjust the trimester TAC distribution in a framework action based on landings from the most recent 5 years. Again, any changes to the trimester TAC provision would have to be developed through the Council in a future management action.

National Environmental Policy Act and Associated Analyses

Comment 34: One NGO commented that Framework 53 does not meet the requirements of the National Environmental Policy Act (NEPA) because it failed to include a reasonable range of alternatives for the GOM cod protection closures. The commenter noted that Framework 53 should have included the 2014 interim closures as one alternative, as well as an additional alternative that was developed by the PDT.

Response: We disagree that this action does not meet the requirements of NEPA. Any comments about the sufficiency of the NEPA analysis of this framework must be considered in the context of the ongoing set of measures that adapt to changing conditions and information affecting the overall FMP, and the many different alternatives that have been analyzed over the years. Within this context, Framework 53 does include a reasonable range of alternatives for the GOM cod area closures that represented various combinations of closures based on the available information. The Purpose and Need of Framework 53 related to the area closures was to enhance spawning protection for GOM cod, help reduce fishing mortality of GOM cod, and to minimize the economic impact of the closures by providing access to healthy groundfish stocks.

Although some of the area closures implemented in our 2014 interim action for GOM cod were intended to protect spawning aggregations, area closures were also used as a mechanism to reduce overfishing in lieu of reducing the catch limit inseason. As a result, it was apparent that the 2014 interim closures would not have met the Purpose and Need of Framework 53 to provide access to healthy groundfish stocks because the interim closures were not designed, or intended, to meet this objective. Further, because the interim closures were designed to reduce overfishing in lieu of an ACL reduction, these closures would have been overly restrictive for fishing year 2015 once the GOM cod catch limit was reduced based on the 2014 assessment result.

The PDT option that the commenter referenced closely resembled the 2014 interim action closures, and in some cases, was more restrictive than the interim closures. Because the protection closures are complementary to the GOM cod catch limit, the option presented by the PDT would likely have been overly restrictive. Further, this option would have virtually shut down the inshore GOM to the groundfish fishery for eight months of the year, and small inshore vessels would likely have been unable to adapt to these closures. Therefore, although the PDT presented this option to the Council's Groundfish Oversight Committee, the Committee did not advance this option for consideration in Framework 53 because it clearly would not have met all of the goals and objectives of the action.

Changes From the Proposed Rule

We made one change from the proposed rule in this action. After further consideration of the available information and public comments, we are implementing a daily VMS catch report requirement for commercial groundfish vessels that declare their intent to fish in the GOM and any other broad stock area on the same trip. Given concerns for the low GOM cod catch limit and the potential incentive to misreport, we determined that daily VMS catch reports will help ensure more accurate catch apportionment and compliance with the cod catch limits.

Classification

Pursuant to section 304(b)(1)(A) of the Magnuson-Stevens Act, the NMFS Assistant Administrator has determined that the management measures implemented in this final rule are necessary for the conservation and management of the Northeast groundfish fishery and consistent with the Magnuson-Stevens Act, and other applicable law.

This final rule has been determined to be significant for purposes of Executive Order (E.O.) 12866.

This final rule does not contain policies with Federalism or “takings” implications as those terms are defined in E.O. 13132 and E.O. 12630, respectively.

The Assistant Administrator for Fisheries finds good cause, under authority contained in 5 U.S.C. 553(d)(3), to waive the 30-day delayed effectiveness of this action. The effective date of this action affects a parallel rulemaking approving sector operations plans for the start of the 2015 fishing year on May 1, 2015. In addition, this action sets fishing year 2015 catch limits for several groundfish stocks, revises GOM cod management measures to provide additional protection for the stock, and adopts other measures to improve the management of the groundfish fishery. This final rule must be in effect at the beginning of 2015 fishing year to fully capture the conservation and economic benefits of Framework 53 measures and the 2015 sector operations plans.

During the development of the Framework 53, updated stock information for GOM cod became available. As a result of this updated stock information, the Council had to include additional measures in Framework 53 to respond to this information and increase protection for GOM cod given its poor status. As a result, this rulemaking could not be completed further before this date. Therefore, in order to have this action effective at the beginning of the 2015 fishing year, which begins on May 1, 2015, it is necessary to waive the 30-day delayed effectiveness of this rule.

Failure to waive the 30-day delayed effectiveness would result in no catch limits being specified for a number of groundfish stocks. Without an allocation for these groundfish stocks, sector vessels would be unable to fish beginning on May 1, 2015. This would severely disrupt the fishery, and could result in foregone yield and revenue reductions. The groundfish fishery already faced substantial cuts in the catch limits for many key groundfish stocks beginning in 2013, and this final rule implements additional catch limit reductions. However, if sector vessels were unable to fish beginning on May 1, 2015, the negative economic impacts would exceed any negative economic impacts anticipated from this action. Any further disruption to the fishery that would result from a delay of this final rule could worsen the severe economic impacts to the groundfish fishery. This action includes specifications that would increase the catch limit for haddock, and re-configures GOM closed areas to increase fishing opportunities on healthy groundfish stocks. These measures are intended to help mitigate the economic impacts of the reductions in catch limits for several key groundfish stocks. A delay in implementation of this action would greatly diminish any benefits of these specifications and other approved measures. For these reasons, a 30-day delay in the effectiveness of this rule is impracticable and contrary to the public interest.

Final Regulatory Flexibility Analysis

Section 604 of the RFA, 5 U.S.C. 604, requires Federal agencies to prepare a Final Regulatory Flexibility Analysis (FRFA) for each final rule. The FRFA describes the economic impact of this action on small entities. The FRFA includes a summary of significant issues raised by public comments, the analyses contained in Framework 53 and its accompanying Environmental Assessment/Regulatory Impact Review/Initial Regulatory Flexibility Analysis (IRFA), the IRFA summary in the proposed rule, as well as the summary provided below. A description of the action, why it is being considered, and the legal basis for this action are contained in Framework 53 and in the preamble to the proposed rule, as well as this final rule, and are not repeated here. A copy of the full analysis is available from the NMFS (see ADDRESSES).

A Summary of the Significant Issues Raised by the Public in Response to the IRFA, a Summary of the Agency's Assessment of Such Issues, and a Statement of Any Changes Made in the Final Rule as a Result of Such Comments

Our responses to all of the comments received on the proposed rule, including those that raised significant issues with the proposed action, or commented on the economic analyses summarized in the IRFA, can be found in the Comments and Responses section of this rule. As outlined in that section, significant issues were raised by the public with respect to:

• GOM cod catch limits for the 2015-2017 fishing years;

• GOM cod protection closures; and

• The prohibition on possession of GOM cod for recreational fishing vessels.

Comments 14 and 26 discussed the economic impacts of this action. Comment 14 noted that the GOM cod reduction would have severe negative impacts on the commercial groundfish fishery, and one of these commenters suggested that the analysis may have underestimated the predicted gross revenue losses as a result of the GOM cod reduction. Comment 26 highlighted concerns that the GOM cod possession restriction for the recreational fishery would have severe socio-economic impacts. There were no other comments directly related to the IRFA.

Description and Estimate of Number of Small Entities to Which the Rule Would Apply

The Small Business Administration defines a small business as one that is:

• independently owned and operated;

• not dominant in its field of operation;

• has annual receipts that do not exceed—

○ $20.5 million in the case of commercial finfish harvesting entities (NAICS ¹ 114111)

¹ The North American Industry Classification System (NAICS) is the standard used by Federal statistical agencies in classifying business establishments for the purpose of collecting, analyzing, and publishing statistical data related to the U.S. business economy.

○ $5.5 million in the case of commercial shellfish harvesting entities (NAICS 114112)

○ $7.5 million in the case of for-hire fishing entities (NAICS 114119); or

• has fewer than—

○ 500 employees in the case of fish processors

○ 100 employees in the case of fish dealers.

This final rule affects commercial and recreational fish harvesting entities engaged in the groundfish fishery, the small-mesh multispecies and squid fisheries, the midwater trawl herring fishery, and the scallop fishery. Individually-permitted vessels may hold permits for several fisheries, harvesting species of fish that are regulated by several different FMPs, even beyond those impacted by the proposed action. Furthermore, multiple-permitted vessels and/or permits may be owned by entities affiliated by stock ownership, common management, identity of interest, contractual relationships, or economic dependency. For the purposes of the RFA analysis, the ownership entities, not the individual vessels, are considered to be the regulated entities.

Ownership entities are defined as those entities with common ownership personnel as listed on the permit application. Only permits with identical ownership personnel are categorized as an ownership entity. For example, if five permits have the same seven persons listed as co-owners on their permit application, those seven persons would form one ownership entity, that hold those five permits. If two of those seven owners also co-own additional vessels, that ownership arrangement would be considered a separate ownership entity for the purpose of this analysis.

On June 1 of each year, ownership entities are identified based on a list of all permits for the most recent complete calendar year. The current ownership data set used for this analysis is based on calendar year 2013 and contains average gross sales associated with those permits for calendar years 2011 through 2013. In addition to classifying a business (ownership entity) as small or large, a business can also be classified by its primary source of revenue. A business is defined as being primarily engaged in fishing for finfish if it obtains greater than 50 percent of its gross sales from sales of finfish. Similarly, a business is defined as being primarily engaged in fishing for shellfish if it obtains greater than 50 percent of its gross sales from sales of shellfish.

A description of the specific permits that are likely to be impacted by this action is provided below, along with a discussion of the impacted businesses, which can include multiple vessels and/or permit types.

Regulated Commercial Fish Harvesting Entities

Table 19 describes the total number of commercial business entities potentially affected by the proposed action. As of May 1, 2014, there were 1,386 commercial business entities potentially affected by this action. These entities participate in, or are permitted for, the groundfish, small-mesh multispecies, herring midwater trawl, and scallop fisheries. For the groundfish fishery, this action directly regulates potentially affected entities through catch limits and other management measures designed to achieve the goals and objectives of the FMP. For the non-groundfish fisheries, this action includes allocations for groundfish stocks caught as bycatch in these fisheries. For each of these fisheries, there are AMs that are triggered if their respective allocations are exceeded. As a result, the likelihood of triggering an AM is a function of changes to the ACLs each year.

Table 19—Commercial Fish Harvesting Entities Regulated by this Final Rule
Type | Total number | Classified as small businesses
Primarily finfish | 813 | 813
Primarily shellfish | 573 | 549
Total | 1,386 | 1,362

Limited Access Groundfish Fishery

This action will directly impact entities engaged in the limited access groundfish fishery. The limited access groundfish fishery consists of those enrolled in the sector program and those in the common pool. Both sectors and the common pool are subject to catch limits, and AMs that prevent fishing in a respective stock area when the entire catch limit has been caught. Additionally, common pool vessels are subject to DAS restrictions and trip limits. All permit holders are eligible to enroll in the sector program; however, many vessels remain in the common pool because they have low catch histories of groundfish stocks, which translate into low PSCs. Low PSCs would limit a vessel's viability in the sector program. In general, businesses enrolled in the sector program rely more heavily on sales of groundfish species than vessels enrolled in the common pool.

As of May 1, 2014 (beginning of fishing year 2014), there were 1,046 individual limited access permits. Of these, 613 were enrolled in the sector program, and 433 were in the common pool. For fishing year 2013, which is the most recent complete fishing year, 708 of these limited access permits had landings of any species, and 360 of these permits had landings of groundfish species.

Of the 1,046 individual limited access multispecies permits potentially impacted by this action, there are 868 distinct ownership entities. Of these, 855 are categorized as small entities, and 13 are categorized as large entities. However, these totals may mask some diversity among the entities. Many, if not most, of these ownership entities maintain diversified harvest portfolios, obtaining gross sales from many fisheries and not dependent on any one. However, not all are equally diversified. This action is most likely to affect those entities that depend most heavily on sales from harvesting groundfish species. There are 114 entities that are groundfish-dependent, all of which are small, and all of which are finfish commercial harvesting businesses. Of these groundfish-dependent entities, 102 have some level of participation in the sector program, and 12 operate exclusively in the common pool.

Limited Access Scallop Fisheries

The limited access scallop fisheries include limited access scallop permits and Limited Access General Category (LAGC) scallop permits. Limited access scallop businesses are subject to a mixture of DAS restrictions and dedicated area trip restrictions. LAGC scallop businesses are able to acquire and trade LAGC scallop quota, and there is an annual cap on quota/landings. The scallop fishery receives an allocation for GB and SNE/MA yellowtail flounder and southern windowpane flounder. If these allocations are exceeded, AMs are implemented in a subsequent fishing year. These AMs close certain areas of high groundfish bycatch to scallop fishery, and the length of the closure depends on the magnitude of the overage.

Of the total commercial business entities potentially affected by this action (1,386), there are 171 scallop fishing entities. The majority of these entities are defined as shellfish businesses (167). However, four of these entities are defined as finfish businesses, all of which are small. Of the total scallop fishing entities, 149 entities are classified as small entities.

Midwater Trawl Fishery

There are four categories of permits for the herring fishery. Three of these permit categories are limited access, and vary based on the allowable herring possession limits and areas fished. The fourth permit category is open access. Although there is a large number of open access permits issued each year, this category is subject to fairly low possession limits for herring, account for a very small amount of the herring landings, and derive relatively little revenue from the fishery. The midwater trawl herring fishery receives an allocation of GOM and GB haddock. Once the entire allocation for either stock has been caught, the directed herring fishery is closed in the respective area for the remainder of the fishing year. Additionally, if the midwater trawl fishery exceeds its allocation, the overage is deducted from its allocation in the following fishing year.

Of the total commercial business entities potentially regulated by this action (1,386), there are 71 herring fishing entities. Of these, 43 entities are defined as finfish businesses, all of which are small. There are 28 entities that are defined as shellfish businesses, and 21 of these are considered small. For the purposes of this analysis, squid is classified as shellfish. Thus, because there is some overlap with the herring and squid fisheries, it is likely that these shellfish entities derive most of their revenues from the squid fishery.

Small-Mesh Fisheries

The small-mesh exempted fishery allows vessels to harvest species in designated areas using mesh sizes smaller than the minimum mesh size required by the Northeast Multispecies FMP. To participate in the small-mesh multispecies (whiting) fishery, vessels must hold either a limited access multispecies permit or an open access multispecies permit. Limited access multispecies permit holders can only target whiting when not fishing under a DAS or a sector trip, and while declared out of the fishery. A description of limited access multispecies permits was provided above. Many of these vessels target both whiting and longfin squid on small-mesh trips and, therefore, most of them also have open access or limited access squid, mackerel, and butterfish permits. As a result, squid, mackerel, and butterfish permits were not handled separately in this analysis.

The small-mesh fisheries receive an allocation of GB yellowtail flounder. If this allocation is exceeded, an AM is triggered for a subsequent fishing year. The AM requires small-mesh vessels to use selective trawl gear when fishing on GB. This gear restriction is only implemented for one year as a result of an overage, and is removed as long as additional overages do not occur.

Of the total commercial harvesting entities potentially affected by this action, there are 570 small-mesh entities. However, this is not necessarily informative because not all of these entities are active in the whiting fishery. Based on the most recent information, 25 of these entities are considered active, with at least 1 lb of whiting landed. Of these entities, 7 are defined as finfish businesses, all of which are small. There are 18 entities that are defined as shellfish businesses, and 17 of these are considered small. Because there is overlap with the whiting and squid fisheries, it is likely that these shellfish entities derive most of their revenues from the squid fishery.

Regulated Recreational Party/Charter Fishing Entities

The charter/party permit is an open access groundfish permit that can be requested at any time, with the limitation that a vessel cannot have a limited access groundfish permit and an open access party/charter permit concurrently. There are no qualification criteria for this permit. Charter/party permits are subject to recreational management measures, including minimum fish sizes, possession restrictions, and seasonal closures.

During calendar year 2014, 732 party/charter permits were issued. Of these, 267 party/charter permit holders reported catching and retaining any groundfish species on at least one for-hire trip. In addition, 204 party/charter permit holders reported catching at least one cod in 2014. While all party/charter fishing businesses that catch cod may be affected by the proposed action, the recreational groundfish fishery only receives an allocation for the GOM stock. Of the 204 party/charter businesses that reported to have caught cod, 106 reported catching cod in the GOM.

A 2013 report indicated that, in the northeast United States, the mean gross sales was approximately $27,650 for a charter business and $13,500 for a party boat. Based on the available information, no business approached the $7.5 million large business threshold. Therefore, the 267 potentially regulated party/charter entities are all considered small businesses.

Description of Projected Reporting, Recordkeeping, and Other Compliance Requirements

This action contains a change to an information collection requirement, which has been approved by the Office of Management and Budget (OMB) under OMB Control Number 0648-0605: Northeast Multispecies Amendment 16 Data Collection. The revision requires vessels that declare trips into the GOM Broad Stock Area and any other broad stock area (i.e., GB or SNE/MA) on the same trip to submit a daily catch report via VMS. Vessels fishing in multiple broad stock areas are currently required to submit a trip-level VMS catch report, so this change only increases the frequency of submission for certain trips. The daily catch report is estimated to take 15 minutes to complete, and cost $2.08 per submission. Based on trips to multiple broad stock areas taken during the 2013 fishing year, the average trip length for vessels that fish in multiple broad stock areas on a single trip is 5 days. If vessels take 7 trips per year, the burden estimate for daily trip reports is 8 hours and $73.

Public comment is sought regarding whether this collection of information is necessary for the proper performance of the functions of the agency, including whether the information shall have practical utility; the accuracy of the burden estimate; ways to enhance the quality, utility, and clarity of the information to be collected; and ways to minimize the burden of the collection of information, including through the use of automated collection techniques or other forms of information technology. Send comments on these or any other aspects of the collection of information to NMFS and to OMB (see ADDRESSES).

Notwithstanding any other provision of the law, no person is required to respond to, and no person shall be subject to penalty for failure to comply with, a collection of information subject to the requirements of the Paperwork Reduction Act, unless that collection of information displays a currently valid OMB control number.

Description of the Steps the Agency Has Taken To Minimize the Significant Economic Impact on Small Entities Consistent With the Stated Objectives of Applicable Statutes

The economic impacts of the measures implemented in this action are summarized below and are discussed in more detail in sections 7.4 and 8.11 of the Framework 53 Environmental Assessment. Although small entities are defined based on gross sales of ownership groups, not physical characteristics of the vessel, it is reasonable to assume that larger vessels are more likely to be owned by large entities. The economic impacts of this action are anticipated to result in aggregate gross revenue losses of approximately $4 million in fishing year 2015, compared to predicted revenues for fishing year 2014. However, these losses are expected to be absorbed primarily by small businesses. Some vessel size classes and ports are predicted to have 50- to 80-percent declines in revenues from groundfish, and many vessels may be forced to relocate to Southern New England ports, or stop fishing altogether.

Because predicted losses are expected to primarily affect small businesses, this action has the potential to place small entities at a competitive disadvantage relative to large entities. This is mainly because large entities may have more flexibility to adjust to, and accommodate, the measures. However, as discussed in more detail below, the additional declines in gross revenues expected as a result of this action will pose serious difficulties for all groundfish vessels and their crew.

Status Determination Criteria

This action changes the GB yellowtail flounder status, relative to reference points, to unknown. In addition, this action updates the numerical estimates of the status determination criteria for GOM cod, GOM haddock, GOM winter flounder, GB winter flounder, and pollock. These updates result in lower values of MSY. For some of these, the lower values of MSY result in lower ACLs in the short-term, which is expected to have negative economic impacts (i.e., lower net revenues). However, the updates to the status determination criteria are expected to have positive stock benefits by helping to prevent overfishing. Thus, in the long-term, the changes to status determination criteria are expected to result in higher and more sustainable landings when compared to the No Action option. All of the revisions are based on the 2014 assessments for the respective stocks, and are therefore based on the best scientific information available.

Status determination criteria are formulaic based on the results of a stock assessment. As a result, the only other alternative considered for this action was the No Action option, which would not update the status determination criteria for any groundfish stocks based on the 2014 assessments. This option would not incorporate the best scientific information available, and would not be consistent with Magnuson-Stevens Act requirements, and, as a result, was not selected. This option would not have any immediate economic impacts. However if this option resulted in overfishing in the long-term, then it would have severe negative economic impacts for the fisheries affected by this action.

Annual Catch Limits

This action sets catch limits for eastern GB cod and haddock, GOM cod, GOM haddock, GB yellowtail flounder, GOM winter flounder, and Pollock, and has the potential to affect groundfish (including small-mesh), midwater trawl, and scallop-dependent small entities.

For the commercial groundfish fishery, the catch limits are expected to result in a 7-percent decrease in gross revenues on groundfish trips, or $6 million, compared to predicted gross revenues for fishing year 2014. However, as described later, the aggregate predicted revenues for 2015 also depend on the other measures adopted in this action. The negative impacts of the approved catch limits are not expected to be uniformly distributed across vessels size classes. Vessels in the 30-50 ft (9-15 m) category are predicted to incur the largest decrease in gross revenues compared to 2014. Based only on the approved catch limits, vessels in this category could incur revenue losses of 33 percent, and aggregate losses are expected to be more as a result of other measures in this action. Larger vessel classes are not expected to be affected as heavily by the catch limits in this action. Based only on the approved catch limits, 50-75-ft (15-23-m) vessels are predicted to incur losses of 16 percent, and the largest vessels (75 ft (23 m) and greater) are predicted to incur losses of 3 percent.

For the scallop, midwater trawl, and small-mesh fisheries, the catch limits implemented in this action include allocations for bycatch of groundfish species that occurs in these fisheries. The GB yellowtail flounder allocation for both the scallop and small-mesh fisheries would be a decrease in 2015 compared to 2014, which could increase the likelihood of triggering AMs. However, based on recent catch performance, AMs for GB yellowtail flounder have never been implemented for these fisheries as a result of an overage. Additionally, based on scallop management measures that are proposed for 2015, it is not expected that scallop effort will increase on GB relative to recent years. Although the reduction for GB yellowtail flounder could have negative economic impacts, these fisheries are not expected to exceed their respective allocations in 2015, and no AMs are expected to be triggered.

For the midwater trawl fishery, the allocations for GOM and GB haddock are both expected to increase in 2015 relative to 2014. However, in fishing year 2013, the AM for GB haddock was triggered. As a result, it is possible that this could occur again in 2015 depending on catch rates of herring and haddock. If the AM for GB haddock is triggered, there could be negative economic impacts that result from foregone herring yield. The magnitude of these negative impacts would depend on how much herring quota remained at the time the AM was implemented, and whether other herring management areas were open for directed herring fishing.

The catch limits are based on the latest stock assessment information, which is considered the best scientific information available, and the applicable requirements in the FMP and the Magnuson-Stevens Act. The only other possible alternatives to the catch limits implemented in this action that would mitigate negative impacts would be higher catch limits. Alternative, higher catch limits, however, are not permissible under the law because they would not be consistent with the goals and objectives of the FMP, or the Magnuson-Stevens Act, particularly the requirement to prevent overfishing. The Magnuson-Stevens Act, and case law, prevent implementation of measures that conflict with conservation requirements, even if it means negative impacts are not mitigated. The catch limits implemented in this action are the highest allowed given the best scientific information available, the SSC's recommendations, and requirements to end overfishing and rebuild fish stocks. The only other legally available alternatives to the catch limits in this action would be lower limits, which would not mitigate the economic impacts of this action to the fishery.

Under the No Action option, no catch limits would be specified for the U.S./Canada stocks, GB winter flounder, GOM winter flounder, or pollock. In this scenario, sector vessels would be unable to fish in the respective stock areas at the start of the 2015 fishing year if no allocations were specified. This would result in greater negative economic impacts for vessels compared to the proposed action due to lost revenues as a result of being unable to fish. The proposed action is predicted to result in approximately $77 million in gross revenues from groundfish trips. All of this revenue would be lost if no action was taken to specify catch limits. As a result, this alternative was not selected because if would fail to meet the Magnuson-Stevens Act requirements to achieve optimum yield and consider the needs of fishing communities.

Gulf of Maine Cod Protection Measures

This action re-configures the GOM rolling closures for commercial vessels and adopts a prohibition on possession of GOM cod for the recreational fishery. For the commercial groundfish fishery, this action is expected to result in less severe negative economic impacts than the approved catch limits alone. Based on predicted leasing practices, the negative economic impacts of the selected alternative are estimated to be greater compared to other alternatives considered that would have adopted additional GOM cod spawning closures. However, the aggregate economic impacts of the spawning closures that were considered for this action, but not adopted, are largely driven by the flow of quota from smaller inshore vessels, which would be unable to fish, to larger offshore vessels. Although analysis indicated that the selected action would have greater negative impacts compared to these other alternatives, the negative impacts to small vessels are masked by the predicted aggregate gross revenues. The approved action would add closures in some months, while removing other closures, largely in the month of April. Removing closures in April was intended to provide vessels access to healthy groundfish stocks. As a result, the approved action is expected to improve the viability of the inshore fleet, and help mitigate the economic impacts of the approved catch limits, compared to other closure alternatives considered in the action that included different time-area combinations, and that would have maintained April closures.

The ability of the approved action to provide increased spawning protection would largely dictate the long-term economic impacts of this action. If the approved action enhances spawning protection, which translates into increased stock rebuilding, then the long-term economic impacts would be positive. However, if the approved action does not enhance spawning protection or translate into increased stock rebuilding, then the long-term economic impacts would be similar to the status quo, or negative.

For the recreational fishery, the prohibition on GOM cod possession is expected to result in short-term negative economic impacts, as it will likely result in some recreational anglers not booking party/charter trips. However, if the prohibition results in a decrease in fishing mortality relative to the status quo, then it could contribute to stock rebuilding. If this occurs, the long-term economic impacts of the prohibition could be positive if demand for party/charter fishing trips increase as the stock rebuilds. Further, in the long-term, the recreational fishery would benefit from the commercial closures discussed above if they successfully enhance spawning protection and increase stock rebuilding.

Adopting a possession restriction for the recreational fishery, in lieu of time and area closures to protect GOM cod, mitigated economic impacts for the recreational fishery to the extent practicable. The GOM cod protection closures that were considered in this action, but not adopted, would likely have had even greater economic impacts on the recreational fishery. These closures are mainly inshore, and analysis indicated that the total steam time to fish further offshore, around the closures, would have exceeded the standard party/charter trip of 4 or 6 hours. As a result, recreational vessels may have been unable to move to alternative areas to fish for other groundfish stocks.

Default Groundfish Specifications

This action establishes a mechanism for setting default catch limits in the event a management action is delayed. This is expected to have positive economic benefits, primarily for sector vessels, compared to the No Action option. Sector vessels are not allowed to fish without an allocation, so if no catch limits are specified for the fishing year, there would be severe negative economic impacts to the groundfish fishery. The default groundfish specifications are expected to prevent the situation that would otherwise occur if no action was taken.

Sector Carryover

This action modifies the provision that allows sectors to carryover unused allocation from one fishing year into the next fishing year. The economic impacts of the carryover provision are likely minor, and similar to the status quo. In any fishing year, if the maximum available sector carryover is reduced from 10 percent, this could have a negative economic impact. However, the approved action does not modify the AM for sectors that requires any overages, even overages that result from harvesting available carryover, must be paid back. As a result, the approved action is not expected to largely change sector operations compared to the No Action alternative.

Small Entity Compliance Guide

Section 212 of the Small Business Regulatory Enforcement Fairness Act of 1996 states that, for each rule or group of related rules for which an agency is required to prepare a FRFA, the agency shall publish one or more guides to assist small entities in complying with the rule, and shall designate such publications as “small entity compliance guides.” The agency shall explain the actions a small entity is required to take to comply with a rule or group of rules. As part of this rulemaking process, a small entity compliance guide will be sent to all holders of Federal permits issued for the Northeast multispecies fisheries, as well as the scallop and herring fisheries that receive an allocation of some groundfish stocks. In addition, copies of this final rule and guides (i.e., information bulletins) are available from NMFS at the following Web site: http://www.greateratlantic.fisheries.noaa.gov/.

List of Subjects in 50 CFR Part 648

Fisheries, Fishing, Recordkeeping and reporting requirements.

Dated: April 23, 2015.
Eileen Sobeck,
Assistant Administrator for Fisheries, National Marine Fisheries Service.

For the reasons stated in the preamble, NMFS amends 50 CFR part 648 as follows:

PART 648—FISHERIES OF THE NORTHEASTERN UNITED STATES

1. The authority citation for part 648 continues to read as follows:

Authority: 16 U.S.C. 1801 et seq.

2. In § 648.2:

a. Lift the suspension of the definition for “Gillnet gear capable of catching multispecies” and revise it; and

b. Remove the definition for “Gillnet gear capable of catching multispecies (for purposes of the interim action)”.

The revision reads as follows:

§ 648.2 Definitions.

* * * * *

Gillnet gear capable of catching multispecies means all gillnet gear except pelagic gillnet gear specified at § 648.81(f)(5)(ii) and pelagic gillnet gear that is designed to fish for and is used to fish for or catch tunas, swordfish, and sharks.

* * * * *

§ 648.10 [Amended]

3. In § 648.10, revise paragraph (k)(2) and remove paragraphs (k)(3)(i)(A) and (B).

The revision reads as follows:

§ 648.10 VMS and DAS requirements for vessel owners/operators.

* * * * *

(k) * * *

(2) Reporting requirements for NE multispecies vessel owners or operators fishing in more than one broad stock area per trip. Unless otherwise provided in this paragraph (k)(2), the owner or operator of any vessel issued a NE multispecies limited access permit that has declared its intent to fish within multiple NE multispecies broad stock areas, as defined in paragraph (k)(3) of this section, on the same trip must submit a hail report via VMS providing a good-faith estimate of the amount of each regulated species retained (in pounds, landed weight) and the total amount of all species retained (in pounds, landed weight), including NE multispecies and species managed by other FMPs, from each broad stock area. This reporting requirement is in addition to the reporting requirements specified in paragraph (k)(1) of this section and any other reporting requirements specified in this part. The report frequency is detailed in paragraphs (k)(2)(i) and (ii) of this section.

(i) Vessels declaring into GOM Stock Area and any other stock area. A vessel declared to fish in the GOM Stock Area, as defined in paragraph (k)(3)(i), and any other stock area defined in (k)(3)(ii) through (iv) of this section, must submit a daily VMS catch report in 24-hr intervals for each day by 0900 hr of the following day. Reports are required even if groundfish species caught that day have not yet been landed.

(ii) Vessels declaring into multiple broad stock areas not including GOM Stock Area. A vessel declared into multiple stock areas defined in (k)(3)(ii) through (iv) of this section, not including the GOM Stock Area I defined in (k)(3)(i), must submit a trip-level report via VMS prior to crossing the VMS demarcation line, as defined in § 648.10, upon its return to port following each fishing trip on which regulated species were caught, as instructed by the Regional Administrator.

(iii) The Regional Administrator may adjust the reporting frequency specified in paragraph (k)(2) of this section.

(iv) Exemptions from broad stock area VMS reporting requirements. (A) A vessel is exempt from the reporting requirements specified in paragraph (k)(2) of this section if it is fishing in a special management program, as specified in § 648.85, and is required to submit daily VMS catch reports consistent with the requirements of that program.

(B) The Regional Administrator may exempt vessels on a sector trip from the reporting requirements specified in this paragraph (k)(2) if it is determined that such reporting requirements would duplicate those specified in § 648.87(b).

* * * * *

4. In § 648.14:

a. Lift the suspension of paragraphs (k)(6)(i)(E), (k)(7)(i)(A) and (B), (k)(12)(v)(E) and (F), (k)(12)(v)(K) and (L), (k)(13)(i)(D)(1) through (4), (k)(13)(ii)(B) through (D), (k)(13)(ii)(K) through (M), (k)(14)(viii), and (k)(16)(iii)(A) through (F);

b. Revise paragraph (k)(6)(i)(E);

c. Remove paragraph (k)(6)(i)(H);

d. Revise paragraphs (k)(7)(i)(A) and (B);

e. Remove paragraphs (k)(7)(i)(H) through (J);

f. Revise paragraph (k)(12)(i) introductory text;

g. Remove paragraphs (k)(12)(v)(K) through (N);

h. Revise paragraph (k)(13)(i) introductory text;

i. Remove paragraphs (k)(13)(i)(D)(5) and (6), (k)(13)(ii)(K) through (P), and (k)(14)(xii);

j. Revise paragraphs (k)(16) introductory text and (k)(16)(iii)(A) and (B); and

k. Remove paragraphs (k)(16)(iii)(D) through (H).

The revisions read as follows:

§ 648.14 Prohibitions.

* * * * *

(k) * * *

(6) * * *

(i) * * *

(E) Use, set, haul back, fish with, possess on board a vessel, unless stowed and not available for immediate use as defined in § 648.2, or fail to remove, sink gillnet gear and other gillnet gear capable of catching NE multispecies, with the exception of single pelagic gillnets (as described in § 648.81(f)(5)(ii)), in the areas and for the times specified in § 648.80(g)(6)(i) and (ii), except as provided in § 648.80(g)(6)(i) and (ii), and § 648.81(f)(5)(ii), or unless otherwise authorized in writing by the Regional Administrator.

* * * * *

(7) * * *

(i) * * *

(A) Enter, be on a fishing vessel in, or fail to remove gear from the EEZ portion of the areas described in § 648.81(d)(1), (e)(1), (f)(4), and (g)(1), except as provided in § 648.81(d)(2), (e)(2), (f)(5), (g)(2), and (i).

(B) Fish for, harvest, possess, or land regulated species in or from the closed areas specified in § 648.81(a) through (f) and (n), unless otherwise specified in § 648.81(c)(2)(iii), (f)(5)(i), (f)(5)(iv), (f)(5)(viii) and (ix), (i), (n)(2)(i), or as authorized under § 648.85.

* * * * *

(12) * * *

(i) It is unlawful for any person to:

* * * * *

(13) * * *

(i) It is unlawful for any person to:

* * * * *

(16) Recreational and charter/party requirements. It is unlawful for the owner or operator of a charter or party boat issued a valid Federal NE multispecies permit, or for a recreational vessel, as applicable, unless otherwise specified in § 648.17, to do any of the following if fishing under the recreational or charter/party regulations:

* * * * *

(iii) * * *

(A) Fail to comply with the applicable restrictions if transiting the GOM Regulated Mesh Area with cod on board that was caught outside the GOM Regulated Mesh Area.

(B) Fail to comply with the requirements specified in § 648.81(f)(5)(v) when fishing in the areas described in § 648.81(d)(1), (e)(1), and (f)(4) during the time periods specified.

* * * * *

5. In § 648.80:

a. Lift the suspension of paragraphs (a)(3)(vi), (a)(3)(viii), (a)(4)(iii), (a)(4)(ix), and (g)(6)(i) and (ii);

b. Remove paragraphs (a)(3)(viii) and (ix) and (a)(4)(ix) and (x);

c. Revise paragraphs (g)(6)(i) and (ii); and

d. Remove paragraphs (g)(6)(iii) and (iv).

The revisions read as follows:

§ 648.80 NE multispecies regulated mesh areas and restrictions on gear and methods of fishing.

* * * * *

(g) * * *

(6) * * *

(i) Requirements for gillnet gear capable of catching NE multispecies to reduce harbor porpoise takes. In addition to the requirements for gillnet fishing identified in this section, all persons owning or operating vessels in the EEZ that fish with sink gillnet gear and other gillnet gear capable of catching NE multispecies, with the exception of single pelagic gillnets (as described in § 648.81(f)(5)(ii)), must comply with the applicable provisions of the Harbor Porpoise Take Reduction Plan found in § 229.33 of this title.

(ii) Requirements for gillnet gear capable of catching NE multispecies to prevent large whale takes. In addition to the requirements for gillnet fishing identified in this section, all persons owning or operating vessels in the EEZ that fish with sink gillnet gear and other gillnet gear capable of catching NE multispecies, with the exception of single pelagic gillnets (as described in § 648.81(f)(5)(ii)), must comply with the applicable provisions of the Atlantic Large Whale Take Reduction Plan found in § 229.32 of this title.

* * * * *

6. In § 648.81:

a. Lift suspension of paragraphs (d)(1) through (4), (e)(1) and (2), (f)(1) and (2), (g)(1)(i), (o)(1)(iii), (iv) and (viii) through (x), and (o)(2)(iv);

b. Revise paragraph (d)(2);

c. Remove paragraphs (d)(3) through (6);

d. Revise paragraph (e)(2);

e. Remove paragraphs (e)(3) and (4);

f. Revise paragraph (f);

g. Remove paragraph (g)(1)(vii);

h. Revise paragraphs (g)(2) introductory text, (g)(2)(i), and (i); and

i. Remove paragraph (o).

The revisions read as follows:

§ 648.81 NE multispecies closed areas and measures to protect EFH.

* * * * *

(d) * * *

(2) Unless otherwise restricted under the EFH Closure(s) specified in paragraph (h) of this section, paragraph (d)(1) of this section does not apply to persons on fishing vessels or fishing vessels that meet the criteria in paragraphs (f)(5)(ii) through (v) of this section.

* * * * *

(e) * * *

(2) Unless otherwise restricted under paragraph (h) of this section, paragraph (e)(1) of this section does not apply to persons on fishing vessels or fishing vessels that meet the criteria in paragraphs (f)(5)(ii) through (v) of this section consistent with the requirements specified under § 648.80(a)(5).

* * * * *

(f) GOM Cod Protection Closures. (1) Unless otherwise allowed in this part, no fishing vessel or person on a fishing vessel may enter, fish in, or be in; and no fishing gear capable of catching NE multispecies may be in, or on board a vessel in GOM Cod Protection Closures I through V as described, and during the times specified, in paragraphs (f)(4)(i) through (v) of this section.

(2) Any vessel subject to a GOM cod protection closure may transit the area, provided it complies with the requirements specified in paragraph (i) of this section.

(3) The New England Fishery Management Council shall review the GOM Cod Protection Closures Areas specified in this section when the spawning stock biomass for GOM cod reaches the minimum biomass threshold specified for the stock (50 percent of SSBMSY).

(4) GOM Cod Protection Closure Areas. Charts depicting these areas are available from the Regional Administrator upon request.

(i) GOM Cod Protection Closure I. From May 1 through May 31, the restrictions specified in paragraphs (f)(1) and (2) of this section apply to GOM Cod Protection Closure I, which is the area bounded by the following coordinates connected in the order stated by straight lines:

GOM Cod Protection Closure I
[May 1-May 31]
Point | N. latitude | W. longitude
CPCI 1 | 43°30′ N | ⁽¹⁾
CPCI 2 | 43°30′ N | 69°30′ W
CPCI 3 | 43°00′ N | 69°30′ W
CPCI 4 | 43°00′ N | 70°00′ W
CPCI 5 | 42°30′ N | 70°00′ W
CPCI 6 | 42°30′ N | 70°30′ W
CPCI 7 | 42°20′ N | 70°30′ W
CPCI 8 | 42°20′ N | ⁽²⁾ ⁽³⁾
CPCI 1 | 43°30′ N | ⁽¹⁾ ⁽³⁾
¹ The intersection of 43°30′ N latitude and the coastline of Maine.
² The intersection of 42°20′ N latitude and the coastline of Massachusetts.
³ From Point 8 back to Point 1 following the coastline of the United States.

(ii) GOM Cod Protection Closure II. From June 1 through June 30, the restrictions specified in paragraphs (f)(1) and (2) of this section apply to GOM Cod Protection Closure II, which is the area bounded by the following coordinates connected in the order stated by straight lines:

GOM Cod Protection Closure II
[June 1-June 30]
Point | N. latitude | W. longitude
CPCII 1 | ⁽¹⁾ | 69°30′ W
CPCII 2 | 43°30′ N | 69°30′ W
CPCII 3 | 43°30′ N | 70°00′ W
CPCII 4 | 42°30′ N | 70°00′ W
CPCII 5 | 42°30′ N | 70°30′ W
CPCII 6 | 42°20′ N | 70°30′ W
CPCII 7 | 42°20′ N | ⁽²⁾ ⁽³⁾
CPCII 8 | 42°30′ N | ⁽⁴⁾ ⁽³⁾
CPCII 9 | 42°30′ N | 70°30′ W
CPCII 10 | 43°00′ N | 70°30′ W
CPCII 11 | 43°00′ N | ⁽⁵⁾ ⁽⁶⁾
CPCII 1 | ⁽¹⁾ | 69°30′ W ⁶
¹ The intersection of 69°30′ W longitude and the coastline of Maine.
² The intersection of 42°20′ N latitude and the coastline of Massachusetts.
³ From Point 7 to Point 8 following the coastline of Massachusetts.
⁴ The intersection of 42°30′ N latitude and the coastline of Massachusetts.
⁵ The intersection of 43°00′ N latitude and the coastline of New Hampshire.
⁶ From Point 11 back to Point 1 following the coastlines of New Hampshire and Maine.

(iii) GOM Cod Protection Closure III. From November 1 through January 31, the restrictions specified in paragraphs (f)(1) and (2) of this section apply to GOM Cod Protection Closure III, which is the area bounded by the following coordinates connected in the order stated by straight lines:

GOM Cod Protection Closure III
[November 1-January 31]
Point | N. latitude | W. longitude
CPCIII 1 | 42°30′ N | ⁽¹⁾
CPCIII 2 | 42°30′ N | 70°30′ W
CPCIII 3 | 42°15′ N | 70°30′ W
CPCIII 4 | 42°15′ N | 70°24′ W
CPCIII 5 | 42°00′ N | 70°24′ W
CPCIII 6 | 42°00′ N | ⁽²⁾ ⁽³⁾
CPCIII 1 | 42°30′ N | ⁽¹⁾ ⁽³⁾
¹ The intersection of 42°30′ N latitude and the Massachusetts coastline.
² The intersection of 42°00′ N latitude and the mainland Massachusetts coastline at Kingston, MA.
³ From Point 6 back to Point 1 following the coastline of Massachusetts.

(iv) GOM Cod Protection Closure IV. From October 1 through October 31, the restrictions specified in paragraphs (f)(1) and (2) of this section apply to GOM Cod Protection Closure IV, which is the area bounded by the following coordinates connected in the order stated by straight lines:

GOM Cod Protection Closure IV
[October 1-October 31]
Point | N. latitude | W. longitude
CPCIV 1 | 42°30′ N | ⁽¹⁾
CPCIV 2 | 42°30′ N | 70°00′ W
CPCIV 3 | 42°00′ N | 70°00′ W
CPCIV 4 | 42°00′ N | ⁽²⁾ ⁽³⁾
CPCIV 1 | 42°30′ N | ⁽¹⁾ ⁽³⁾
¹ The intersection of 42°30′ N latitude and the Massachusetts coastline
² The intersection of 42°00′ N latitude and the mainland Massachusetts coastline at Kingston, MA
³ From Point 4 back to Point 1 following the coastline of Massachusetts

(v) GOM Cod Protection Closure V. From March 1 through March 31, the restrictions specified in paragraphs (f)(1) and (2) of this section GOM Cod Protection Closure V, which is the area bounded by the following coordinates connected in the order stated by straight lines:

GOM Cod Protection Closure V
[March 1-March 31]
Point | N. latitude | W. longitude
CPCV 1 | 42°30′ N | 70°00′ W
CPCV 2 | 42°30′ N | 68°30′ W
CPCV 3 | 42°00′ N | 68°30′ W
CPCV 4 | 42°00′ N | 70°00′ W
CPCV 1 | 42°30′ N | 70°00′ W

(5) The GOM cod protection closures specified in this section do not apply to persons aboard fishing vessels or fishing vessels that meet any of the following criteria:

(i) That have not been issued a multispecies permit and that are fishing exclusively in state waters;

(ii) That are fishing with or using exempted gear as defined under this part, except for pelagic gillnet gear capable of catching NE multispecies, unless fishing with a single pelagic gillnet not longer than 300 ft (91.4 m) and not greater than 6 ft (1.83 m) deep, with a maximum mesh size of 3 inches (7.6 cm), provided that:

(A) The net is attached to the boat and fished in the upper two-thirds of the water column;

(B) The net is marked with the owner's name and vessel identification number;

(C) There is no retention of regulated species; and

(D) There is no other gear on board capable of catching NE multispecies;

(iii) That are fishing in the Midwater Trawl Gear Exempted Fishery as specified in § 648.80(d);

(iv) That are fishing in the Purse Seine Gear Exempted Fishery as specified in § 648.80(e);

(v) That are fishing under charter/party or recreational regulations specified in § 648.89, provided that:

(A) For vessels fishing under charter/party regulations in a GOM cod protection closure described under paragraph (f)(4) of this section, it has on board a letter of authorization issued by the Regional Administrator, which is valid from the date of enrollment through the duration of the closure or 3 months duration, whichever is greater; for vessels fishing under charter/party regulations in the Cashes Ledge Closure Area or Western GOM Area Closure, as described under paragraphs (d) and (e) of this section, respectively, it has on board a letter of authorization issued by the Regional Administrator, which is valid from the date of enrollment until the end of the fishing year;

(B) Fish species managed by the NEFMC or MAFMC that are harvested or possessed by the vessel, are not sold or intended for trade, barter or sale, regardless of where the fish are caught;

(C) The vessel has no gear other than rod and reel or handline on board; and

(D) The vessel does not use any NE multispecies DAS during the entire period for which the letter of authorization is valid;

(vi) That are fishing with or using scallop dredge gear when fishing under a scallop DAS or when lawfully fishing in the Scallop Dredge Fishery Exemption Area as described in § 648.80(a)(11), provided the vessel does not retain any regulated NE multispecies during a trip, or on any part of a trip; or

(vii) That are fishing in the Raised Footrope Trawl Exempted Whiting Fishery, as specified in § 648.80(a)(15), or in the Small Mesh Area II Exemption Area, as specified in § 648.80(a)(9);

(viii) That are fishing on a sector trip, as defined in this part, and in the GOM Cod Protection Closures IV or V, as specified in paragraphs (f)(4)(iv) and (v) of this section; or

(ix) That are fishing under the provisions of a Northeast multispecies Handgear A permit, as specified at § 648.82(b)(6), and in the GOM Cod Protection Closures IV or V, as specified in paragraphs (f)(4)(iv) and (v) of this section .

(g) * * *

(2) Paragraph (g)(1) of this section does not apply to persons on fishing vessels or to fishing vessels that meet any of the following criteria:

(i) That meet the criteria in paragraphs (f)(5)(i), (ii), or (iii) of this section;

* * * * *

(i) Transiting. Unless otherwise restricted or specified in this paragraph (i), a vessel may transit CA I, the Nantucket Lightship Closed Area, the Cashes Ledge Closed Area, the Western GOM Closure Area, the GOM Cod Protection Closures, the GB Seasonal Closure Area, the EFH Closure Areas, and the GOM Cod Spawning Protection Area, as defined in paragraphs (a)(1), (c)(1), (d)(1), (e)(1), (f)(4), (g)(1), (h)(1), and (n)(1), of this section, respectively, provided that its gear is stowed and not available for immediate use as defined in § 648.2. A vessel may transit CA II, as defined in paragraph (b)(1) of this section, in accordance with paragraph (b)(2)(iv) of this section. Private recreational or charter/party vessels fishing under the Northeast multispecies provisions specified at § 648.89 may transit the GOM Cod Spawning Protection Area, as defined in paragraph (n)(1) of this section, provided all bait and hooks are removed from fishing rods, and any regulated species on board have been caught outside the GOM Cod Spawning Protection Area and has been gutted and stored.

* * * * *

§ 648.82 [Amended]

7. In § 648.82, lift the suspension of paragraphs (b)(5) through (8), and remove paragraphs (b)(7) through (10).

§ 648.85 [Amended]

8. In § 648.85, lift the suspension of paragraphs (b)(6)(iv)(D) and (K) and remove paragraphs (b)(6)(iv)(K) and (L).

§ 648.86 [Amended]

9. In § 648.86, lift the suspension of paragraphs (b)(1) through (7) and remove paragraphs (b)(5) through (10).

10. In § 648.87:

a. Lift the suspension of paragraphs (b)(1)(v)(A), (b)(1)(ix), (b)(1)(x), (c)(2)(i), (c)(2)(ii)(A) and (B), (c)(2)(ii)(E), and (c)(2)(iii);

b. Revise paragraphs (b)(1)(i)(C) and (b)(1)(iii)(C);

c. Remove paragraphs (b)(1)(v)(C) and (b)(1)(x) and (xi);

d. Revise paragraphs (c)(2)(i) and (c)(2)(ii)(B); and

e. Remove paragraphs (c)(2)(ii)(E) through (G) and (c)(2)(iii) and (iv).

The revisions read as follows:

§ 648.87 Sector allocation.

* * * * *

(b) * * *

(1) * * *

(i) * * *

(C) Carryover. (1) With the exception of GB yellowtail flounder, a sector may carryover an amount of ACE equal to 10 percent of its original ACE for each stock that is unused at the end of one fishing year into the following fishing year, provided that the total unused sector ACE plus the overall ACL for the following fishing year does not exceed the ABC for the fishing year in which the carryover may be harvested. If this total exceeds the ABC, NMFS shall adjust the maximum amount of unused ACE that a sector may carryover (down from 10 percent) to an amount equal to the ABC of the following fishing year. Any adjustments made would be applied to each sector based on its total unused ACE and proportional to the cumulative PSCs of vessels/permits participating in the sector for the particular fishing year, as described in paragraph (b)(1)(i)(E) of this section.

(i) Eastern GB Stocks Carryover. Any unused ACE allocated for Eastern GB stocks in accordance with paragraph (b)(1)(i)(B) of this section shall contribute to the carryover allowance for each stock, as specified in this paragraph (b)(1)(i)(C)(1), but shall not increase individual sector's allocation of Eastern GB stocks during the following year.

(ii) This carryover ACE remains effective during the subsequent fishing year even if vessels that contributed to the sector allocation during the previous fishing year are no longer participating in the same sector for the subsequent fishing year.

(2) Carryover accounting. (i) If the overall ACL for a particular stock is exceeded, the allowed carryover of a particular stock harvested by a sector, minus the NMFS-specified de minimis amount, shall be counted against the sector's ACE for purposes of determining an overage subject to the AM in paragraph (b)(1)(iii) of this section.

(ii) De Minimis Carryover Amount. The de minimis carryover amount is one percent of the overall sector sub-ACL for the fishing year in which the carryover would be harvested. NMFS may change this de minimis carryover amount for any fishing year through notice consistent with the Administrative Procedure Act. The overall de minimis carryover amount would be applied to each sector proportional to the cumulative PSCs of vessels/permits participating in the sector for the particular fishing year, as described in paragraph (b)(1)(i)(E) of this section.

* * * * *

(iii) * * *

(C) ACE buffer. At the beginning of each fishing year, NMFS shall withhold 20 percent of a sector's ACE for each stock for a period of up to 61 days (i.e., through June 30), unless otherwise specified by NMFS, to allow time to process any ACE transfers submitted at the end of the fishing year pursuant to paragraph (b)(1)(viii) of this section and to determine whether the ACE allocated to any sector needs to be reduced, or any overage penalties need to be applied to individual permits/vessels in the current fishing year to accommodate an ACE overage by that sector during the previous fishing year, as specified in paragraph (b)(1)(iii) of this section. NMFS shall not withhold 20 percent of a sector's ACE at the beginning of a fishing year in which default specifications are in effect, as specified in § 648.90(a)(3).

* * * * *

(c) * * *

(2) * * *

(i) Regulations that may not be exempted for sector participants. The Regional Administrator may not exempt participants in a sector from the following Federal fishing regulations: Specific times and areas within the NE multispecies year-round closure areas; permitting restrictions (e.g., vessel upgrades, etc.); gear restrictions designed to minimize habitat impacts (e.g., roller gear restrictions, etc.); reporting requirements; AMs specified in § 648.90(a)(5)(i)(D). For the purposes of this paragraph (c)(2)(i), the DAS reporting requirements specified in § 648.82; the SAP-specific reporting requirements specified in § 648.85; and the reporting requirements associated with a dockside monitoring program are not considered reporting requirements, and the Regional Administrator may exempt sector participants from these requirements as part of the approval of yearly operations plans. For the purpose of this paragraph (c)(2)(i), the Regional Administrator may not grant sector participants exemptions from the NE multispecies year-round closures areas defined as Essential Fish Habitat Closure Areas as defined in § 648.81(h); the Fippennies Ledge Area as defined in paragraph (c)(2)(i)(A) of this section; Closed Area I and Closed Area II, as defined in § 648.81(a) and (b), respectively, during the period February 16 through April 30; and the Western GOM Closure Area, as defined at § 648.81(e), where it overlaps with GOM Cod Protection Closures I through III, as defined in § 648.81(f)(4). This list may be modified through a framework adjustment, as specified in § 648.90.

* * * * *

(ii) * * *

(B) The GOM Cod Protection Closures IV and V specified in § 648.81(f)(4)(iv) and (v) and the GB Seasonal Closed Area specified in § 648.81(g)(1);

* * * * *

§ 648.88 [Amended]

11. In § 648.88, lift the suspension of paragraphs (a)(1) and (3), and remove paragraphs (a)(3) and (4).

12. In § 648.89:

a. Lift the suspension of paragraphs (b)(3), (c)(1) and (2), (c)(8), and (e)(1) through (4);

b. Revise paragraphs (c)(1) and (c)(2)(i);

c.. Remove paragraphs (c)(2)(v) and (c)(8) and (9);

c. Revise paragraph (e)(1);

d. Remove paragraphs (e)(4) through (7); and

e. Revise paragraph (f).

The revisions read as follows:

§ 648.89 Recreational and charter/party vessel restrictions.

* * * * *

(c) Possession Restrictions—(1) Recreational fishing vessels. (i) Each person on a private recreational vessel may possess no more than 10 cod per day in, or harvested from, the EEZ when fishing outside of the GOM Regulated Mesh Area specified in § 648.80(a)(1).

(ii) When fishing in the GOM Regulated Mesh Area specified in § 648.80(a)(1), persons aboard private recreational fishing vessels may not fish for or possess any cod with the exception that private recreational vessels in possession of cod caught outside the GOM Regulated Mesh Area specified in § 648.80(a)(1) may transit this area, provided all bait and hooks are removed from fishing rods and any cod on board has been gutted and stored.

(iii) For purposes of counting fish, fillets will be converted to whole fish at the place of landing by dividing the number of fillets by two. If fish are filleted into a single (butterfly) fillet, such fillet shall be deemed to be from one whole fish.

(iv) Cod harvested by recreational fishing vessels in or from the EEZ with more than one person aboard may be pooled in one or more containers. Compliance with the possession limit will be determined by dividing the number of fish on board by the number of persons on board. If there is a violation of the possession limit on board a vessel carrying more than one person, the violation shall be deemed to have been committed by the owner or operator of the vessel.

(v) Cod must be stored so as to be readily available for inspection.

(2) Charter/party vessels. (i) Persons aboard charter/party fishing vessels permitted under this part and not fishing under the NE multispecies DAS program or on a sector trip that are fishing in the GOM Regulated Mesh Area specified in § 648.80(a)(1) may not fish for, possess, or land any cod with the exception that charter/party vessels in possession of cod caught outside the GOM Regulated Mesh Area specified in § 648.80(a)(1) may transit this area, provided all bait and hooks are removed from fishing rods and any cod on board has been gutted and stored.

* * * * *

(e) * * *

(1) GOM Closed Areas. (i) A vessel fishing under charter/party regulations may not fish in the GOM closed areas specified in § 648.81(d)(1), (e)(1), and (f)(4) during the time periods specified in those paragraphs, unless the vessel has on board a valid letter of authorization issued by the Regional Administrator pursuant to § 648.81(f)(5)(v) and paragraph (e)(3) of this section. The conditions and restrictions of the letter of authorization must be complied with for a minimum of 3 months if the vessel fishes or intends to fish in the GOM cod protection closures; or for the rest of the fishing year, beginning with the start of the participation period of the letter of authorization, if the vessel fishes or intends to fish in the year-round GOM closure areas.

(ii) A vessel fishing under charter/party regulations may not fish in the GOM Cod Spawning Protection Area specified at § 648.81(n)(1) during the time period specified in that paragraph, unless the vessel complies with the requirements specified at § 648.81(n)(2)(iii).

* * * * *

(f) Recreational fishery AM—(1) Catch evaluation. As soon as recreational catch data are available for the entire previous fishing year, the Regional Administrator will evaluate whether recreational catches exceed any of the sub-ACLs specified for the recreational fishery pursuant to § 648.90(a)(4). When evaluating recreational catch, the components of recreational catch that are used shall be the same as those used in the most recent assessment for that particular stock. To determine if any sub-ACL specified for the recreational fishery was exceeded, the Regional Administrator shall compare the 3-year average of recreational catch to the 3-year average of the recreational sub-ACL for each stock.

(2) Reactive AM adjustment. (i) If it is determined that any recreational sub-ACL was exceeded, as specified in paragraph (f)(1) of this section, the Regional Administrator, after consultation with the New England Fishery Management Council, shall develop measures necessary to prevent the recreational fishery from exceeding the appropriate sub-ACL in future years. Appropriate AMs for the recreational fishery, including adjustments to fishing season, minimum fish size, or possession limits, may be implemented in a manner consistent with the Administrative Procedure Act, with final measures published in the Federal Register no later than January when possible. Separate AMs shall be developed for the private and charter/party components of the recreational fishery.

(ii) The Regional Administrator shall not adjust the possession limit for GOM cod, under the reactive AM authority specified in paragraph (f)(2)(i) of this section, as long as possession of this stock is prohibited for the recreational fishery, as specified in paragraph (c) of this section.

(3) Proactive AM adjustment. (i) When necessary, the Regional Administrator, after consultation with the New England Fishery Management Council, may adjust recreational measures to ensure the recreational fishery achieves, but does not exceed any recreational fishery sub-ACL in a future fishing year. Appropriate AMs for the recreational fishery, including adjustments to fishing season, minimum fish size, or possession limits, may be implemented in a manner consistent with the Administrative Procedure Act, with final measures published in the Federal Register prior to the start of the fishing year where possible. In specifying these AMs, the Regional Administrator shall take into account the non-binding prioritization of possible measures recommended by the Council: for cod, first increases to minimum fish sizes, then adjustments to seasons, followed by changes to bag limits; and for haddock, first increases to minimum size limits, then changes to bag limits, and then adjustments to seasons.

(ii) The Regional Administrator shall not adjust the possession limit for GOM cod, under the proactive AM authority specified in paragraph (f)(3)(i) of this section, as long as possession of this stock is prohibited for the recreational fishery, as specified in paragraph (c) of this section.

13. In § 648.90, revise paragraphs (a)(2)(i) and (viii), (a)(3), and (a)(5)(i) introductory text to read as follows:

§ 648.90 NE multispecies assessment, framework procedures and specifications, and flexible area action system.

* * * * *

(a) * * *

(2) * * *

(i) The NE multispecies PDT shall meet on or before September 30 every other year to perform a review of the fishery, using the most current scientific information available provided primarily from the NEFSC. Data provided by states, ASMFC, the USCG, and other sources may also be considered by the PDT. Based on this review, the PDT will develop ACLs for the upcoming fishing year(s) as described in paragraph (a)(4) of this section and develop options for consideration by the Council if necessary, on any changes, adjustments, or additions to DAS allocations, closed areas, or other measures necessary to rebuild overfished stocks and achieve the FMP goals and objectives.

* * * * *

(viii) If the Regional Administrator concurs in the Council's recommendation, a final rule shall be published in the Federal Register on or about April 1 of each year, with the exception noted in paragraph (a)(2)(vii) of this section. If the Council fails to submit a recommendation to the Regional Administrator by February 1 that meets the FMP goals and objectives, the Regional Administrator may publish as a proposed rule one of the options reviewed and not rejected by the Council, provided that the option meets the FMP objectives and is consistent with other applicable law. If, after considering public comment, the Regional Administrator decides to approve the option published as a proposed rule, the action will be published as a final rule in the Federal Register.

* * * * *

(3) Default OFLs, ABCs, and ACLs. (i) Unless otherwise specified in this paragraph (a)(3), if final specifications are not published in the Federal Register for the start of a fishing year, as outlined in paragraph (a)(4) of this section, specifications for that fishing year shall be set at 35 percent of the previous year's specifications for each NE multispecies stock, including the U.S./Canada shared resources, for the period of time beginning on May 1 and ending on July 31, unless superseded by the final rule implementing the current year's specifications.

(ii) If the default specifications exceed the Council's recommendations for any stock for the current year, the specifications for that stock shall be reduced to the Council's recommendation through notice consistent with the Administrative Procedure Act.

(iii) These specifications shall be subdivided among the various sub-components of the fishery consistent with the ABC/ACL distribution adopted for the previous year's specifications.

* * * * *

(5) * * *

(i) AMs for the NE multispecies commercial and recreational fisheries. If the catch of regulated species or ocean pout by a sub-component of the NE multispecies fishery (i.e., common pool vessels, sector vessels, or private recreational and charter/party vessels) exceeds the amount allocated to each sub-component, as specified in paragraph (a)(4)(iii)(H) of this section, then the applicable AM for that sub-component of the fishery shall take effect, pursuant to paragraphs (a)(5)(i)(A) through (C) of this section. In determining the applicability of AMs specified for a sub-component of the NE multispecies fishery in paragraphs (a)(5)(i)(A) through (C) of this section, the Regional Administrator shall consider available information regarding the catch of regulated species and ocean pout by each sub-component of the NE multispecies fishery, plus each sub-component's share of any overage of the overall ACL for a particular stock caused by excessive catch by vessels outside of the FMP, exempted fisheries, or the Atlantic sea scallop fishery, as specified in this paragraph (a)(5), as appropriate.

* * * * *

[FR Doc. 2015-09952 Filed 4-30-15; 8:45 am]

BILLING CODE 3510-22-P